DEPARTMENT OF COMMERCE

National Oceanic and Atmospheric Administration

50 CFR Part 660

[Docket No. 051213334-6119-02; I.D. 112905C]

RIN 0648-AT98

Magnuson-Stevens Act Provisions; Fisheries off West Coast States; Pacific Coast Groundfish Fishery

AGENCY: National Marine Fisheries Service (NMFS), National Oceanic and Atmospheric Administration (NOAA), Commerce.

ACTION: Final rule.

SUMMARY: NMFS is implementing the regulatory provisions of Amendment 19 to the Pacific Coast Groundfish Fishery Management Plan (FMP). Amendment 19 provides for a comprehensive program to describe and protect essential fish habitat (EFH) for Pacific Coast Groundfish. The management measures to implement Amendment 19, which are authorized by the FMP and the Magnuson-Stevens Fishery Conservation and Management or Magnuson-Stevens Act), are intended to minimize, to the extent practicable, adverse effects to EFH from fishing. The measures include fishing gear restrictions and prohibitions, areas that are closed to bottom trawling, and areas that are closed to all fishing that contacts the bottom.

DATES: Effective June 12, 2006.

ADDRESSES: Copies of the Record of Decision, the Final Environmental Impact Statement, the Final Regulatory Flexibility Analysis (FRFA), and the Small Entity Compliance Guide (SECG) are available at www.nwr.noaa.gov or from D. Robert Lohn, Administrator, Northwest Region, NMFS, 7600 Sand Point Way NE, Seattle, WA 98115-0070, phone: 206-526-6150.

FOR FURTHER INFORMATION CONTACT: Steve Copps (Northwest Region, NMFS), phone: 206-526-6140; fax: 206-526-6736 and; e-mail: steve.copps@noaa.gov.

SUPPLEMENTARY INFORMATION:

Electronic Access

This Federal Register document is available on the Government Printing Office's website at: www.gpoaccess.gov/fr/index.html.

Background information and documents are available at the NMFS Northwest Region website at: www.nwr.noaa.gov and at the Pacific Fishery Management Council′s website at: www.pcouncil.org.

Background

Amendment 19 was developed by NMFS and the Pacific Fishery Management Council (Council) to comply with section 303(a)(7) of the Magnuson-Stevens Act by amending the Pacific Coast Groundfish FMP to: (1) describe and identify EFH for the fishery, (2) designate Habitat Areas of Particular Concern (HAPC), (3) minimize to the extent practicable the adverse effects of fishing on EFH, and (4) identify other actions to encourage the conservation and enhancement of EFH. This final rule implements regulations in accordance with Amendment 19.

A notice of availability for the amendment was published on December 7, 2005 (70 FR 72777). A notice of availability for the Final Environmental Impact Statement (FEIS) was published on December 9, 2005 (70 FR 73233), with public comment being accepted through January 9, 2006. A proposed rule to implement Amendment 19 was published on January 12, 2006 (71 FR 1998), with public comments being accepted through February 27, 2006. NMFS published a correction to the proposed rule on January 30, 2006 (71 FR 4886). Public comments, and NMFS responses, are summarized below. The comprehensive strategy to conserve EFH, including its identification and the implementation of measures to minimize to the extent practicable adverse impacts to EFH from fishing, is consistent with provisions of the Magnuson-Stevens Act (16 U.S.C. 1801 et. seq.) and implementing regulations. Amendment 19 includes four categories of action: identification and description of EFH; designation of HAPC; measures to minimize adverse impacts of fishing on EFH; and, research and monitoring. Preparation of this amendment is pursuant to a 2000 court order in American Ocean Campaign et. al v. Daley, Civil Action No. 99-982 (GK)(D.D.C. September 14, 2000) (AOC v. Daley) that required NMFS to reconsider the EFH provisions of the FMP. The regulations herein are necessary to implement measures to minimize adverse impacts of fishing on EFH. Additional background information is contained in the preamble to the proposed rule as well as in the FEIS, Regulatory Impact Review, and Final Regulatory Flexibility Analysis.

Comments and Responses

NMFS received 19 written comments on the proposed rule. The comments are arranged by commentor and subject; and responded to below.

Comment 1: In separate letters, Hubbs-Sea World Research Institute, United Anglers, American Fishing Tackle Company, Project Aware commented in support of designating 13 oil and gas platforms as HAPC. Alaska Trollers Association, Representative Lois Capps, 23rd District California, the Environmental Defense Center, Food and Water Watch, Rob Hatfield, the Ocean Conservancy, and the Pacific Coast Federation of Fishermen's Associations commented against the designation of 13 oil and gas platforms as HAPC.

Response: NMFS partially approved Amendment 19 on March 8, 2006. For that partial approval, NMFS did not approve the designation of 13 oil and gas platforms as HAPC. These comments were considered by NMFS in making its decision on Amendment 19. These comments are relevant to the FMP amendment and not this rule. The full rationale for NMFS' partial approval of Amendment 19, including the substantive response to these comments, is contained in the Record of Decision (see ADDRESSES). NMFS deemed the Record of Decision to be the more appropriate vehicle to respond to this comment because HAPC are not subject to codification in the Code of Federal Regulations (CFR) and are, therefore, not the subject of this final rule.

Comment 2: Several of the commenters identified in Comment 1 requested an extension of the comment period for the proposed rule to allow them more time to formulate their comments.

Response: NMFS rejects the request to extend the comment period on the proposed rule for this action. An extension of the comment period is unnecessary to provide the public with an adequate opportunity for review and comment. A detailed discussion of opportunities for public comment on this rule is provided in the Background section above. In addition, the public has had a number of opportunities via the Council process to provide comments as the Environmental Impact Statement and FMP Amendment were being developed. Further, NMFS′ deadline for a decision on the approval of this final rule is established by court order in AOC v. Daley as May 6, 2006. NMFS has determined that an extension of the comment period for this action would compromise the agency's ability to comply with this deadline.

Comment 3: Oceana commented that designation of oil production platforms as HAPC, and/or allowing oil platforms to be left in place, sets a dangerous precedent for leaving industrial infrastructure in the ocean although such precedent could be mitigated through financial investment in ocean conservation.

Response: NMFS is not, either through this action or the prior partial approval of Amendment 19, taking a position on whether oil platforms should be left in place, or on related mitigation actions such as financial investment. The rationale for disapproving the designation of oil production platforms as HAPC is contained in the ROD (see ADDRESSES) which is careful to point out that NMFS′ decision on Amendment 19 in no way prejudices future decisions on the decommissioning of oil production platforms. Such decisions are outside the scope of Amendment 19 and the rule; and are not considered in this final rule.

Comment 4: Oceana commented that NMFS, in the preamble to the proposed rule, mis-characterized the lack of evidence for adverse impacts from fishing. Oceana states that adverse effects to EFH are occurring and that the only uncertainty is where such effects are occurring, not if they are occurring.

Response: NMFS disagrees that the preamble to the proposed rule mis-characterizes the lack of evidence for adverse impacts from fishing. NMFS considered the National Academy of Sciences report cited by the Oceana by incorporating the conclusions of the report into the FEIS and assessment of impacts. NMFS agrees with the basic conclusions of the report that research demonstrates that bottom trawling may result in physical modification to habitat and a loss in biodiversity in trawled areas. However, there is a fundamental inability to determine the relationship between historical and current levels of fishing effort, impacts to habitat, recovery of the habitat, and the current condition of groundfish EFH. It follows that the status of EFH is at some unknown point on a continuum from highly impacted to pristine and that precautionary management is appropriate; particularly due to the highly sensitive nature of some habitat types such as deep sea corals and the very little fishing effort necessary to have high levels of impact.

The inability to make a definitive determination that adverse effects to EFH from fishing have occurred or are occurring is supported by the FEIS and the related risk assessment, which underwent a substantial public review process by the Council's ad hoc Groundfish Habitat Technical Review Committee, Scientific and Statistical Committee, and other relevant groups. Through this process, NMFS determined it can not quantitatively predict increases in the production of groundfish or enhanced ecosystem function that would result from specific management measures. However, NMFS was able to conclude that there is clear evidence in the literature that some types of fishing would result in physical alteration to habitat and losses in biodiversity. Further, after assessing the type of habitat and fishing gears found off the U.S. West Coast, NMFS concluded that adverse impacts to habitat were possible that could impair the ability of fish to carry out basic biological functions and potentially have long-lasting or permanent implications at the scale of the ecosystem. While NMFS was unable to make a more definitive determination, the information available provided a sufficient basis of the potential for adverse effects to EFH to justify the application of precautionary management measures contained in this final rule. Additional information is contained in the FEIS and Record of Decision for this action (see ADDRESSES).

Comment 5: Oceana commented that the coastwide prohibition of bottom trawling should extend seaward of 300 fm south of Point Conception in order to prevent expansion of the bottom trawl footprint and protect the sea floor.

Response: Public testimony provided to the Council indicates that bottom trawling is well established within the area seaward of 300 fm south of Point Conception. Therefore, the suggestion is inconsistent with the concept of preventing expansion of the footprint. Further, while a prohibition of bottom trawling seaward of 300 fm south of Point Conception (34°27′ N. lat.) would protect more habitat but would do so at a higher socioeconomic cost. In particular, public testimony with the Council indicates that displaced revenues from the bottom trawl fishery (non-groundfish) would likely be in excess of 10 percent of current levels. NMFS has determined that a coast-wide prohibition of bottom trawling within EFH seaward of 700 fm, when combined with the other measures in this final rule, will minimize to the extent practicable adverse impacts on EFH.

Comment 6: In response to NMFS' question in the proposed rule, Oceana commented that NMFS has sufficient authority to implement management measures in the portions of the Exclusive Economic Zone (EEZ) that lie seaward of EFH.

Response: NMFS disagrees. On March 8, 2006, NMFS partially approved Amendment 19. NMFS disapproved the coastwide prohibition on bottom trawling and other gear restrictions in areas of the EEZ that are not described as EFH because it can not find a link between bottom trawling in areas deeper than 3500-meters and adverse impacts on EFH or conservation of the fishery. Therefore, the Magnuson-Stevens Act does not provide authority for closure to bottom trawling in areas within the EEZ that are deeper than EFH because it is not necessary to do so under Amendment 19. The management measures in this final rule will be applied within EFH.

At this time, NMFS does not have enough information to support closing areas beyond the limits of EFH to bottom trawling. EFH is described based on the depth-contour determined by the deepest observation of groundfish, which occurred at 3400 m, plus 100 m as a precautionary adjustment to account for the paucity of data on groundfish distributions and habitat types in deep water. There is very little data available for groundfish EFH in general, but particularly for areas deeper than 2000 m. Detailed mapping of groundfish habitat has been accomplished in relatively few important areas, such as offshore banks of the Southern California Bight (Goldfinger et al., 2005), Monterey Bay, California, and Heceta Bank, Oregon (Wakefield et al., 2005), and is slowly being extended to other areas of the coast. Groundfish distributions are primarily informed by trawl surveys out to 1280 m, with other sporadic information from deeper waters available from university-funded trawl research.

The bottom trawl fishery is not prosecuted deeper than 1280 m, nor is it likely to be, with the rare exception of speculative trawling. At that depth and distance from shore, the cost of fishing is higher than in shallower waters due to increased fuel consumption and gear specifications. Gear specifications for instance would require lengths of cable that are likely to be well outside the capacity of standard fishing vessels. Such costs are likely to outweigh the benefits of fishing. NMFS acknowledges that current trends in fishing activity show that the industry continues to move farther offshore as NMFS restricts fishing opportunities to rebuild groundfish stocks and minimize bycatch nearer to shore. However, 3500 m is an extreme depth that is probably out of reach, in practical sense, to commercial fisheries. The fishing industry's potential to move seaward would most likely still be well shoreward of the 3500 m contour.

NMFS acknowledges that features that occur beyond 3500 m include hydrothermal vents, soft-bottom sediments, and hard bottom areas with biogenic structures such as deep sea corals. All or most of the deep sea environment may be highly sensitive to impact, including at very low levels of fishing effort (e.g. a single contact), and have extended recovery times (over seven years). The fact that the features in these areas may be of ecological value and sensitive to disturbance does not necessarily mean that harm to them is also harmful to groundfish EFH.

Currently, NMFS has little to no information regarding the value of the area beyond the 3500 m contour to the groundfish fishery. The best scientific data currently available does not support the presence of species managed under this plan at those depths, there is no indication that the area provides habitat for managed species, and the fishery is not prosecuted in the area. Therefore, NMFS has not identified a link between potential adverse impacts to features beyond EFH from bottom fishing activities and adverse impacts on EFH. Nor has NMFS identified a link between impacts to areas deeper than 3500 m conservation and management of the fishery. This is because there is no evidence of the value of the area deeper than 3500 m to the fishery. There is not even enough information to support use of the precautionary approach as the basis for closing these areas because there is no connection between the area and groundfish EFH. Because NMFS has identified no link between impacts to this deep habitat and the groundfish fishery, it does not have authority under the Magnuson-Stevens Act to close these areas to fishing at this time under Amendment 19. NMFS may have cause in the future to be concerned if bottom trawlers engage in speculative trawling in these deeper waters as more areas nearer shore become more restricted to fishing.

Recognizing current statutory limits to protecting such areas, the Administration offered an ecosystem approach to management in its proposal to reauthorize the Magnuson-Stevens Act. Among the ecosystem related provisions, section 4(f) of the proposal would allow the regional councils to develop fishery ecosystem plans that “may contain conservation and management measures applicable to fishery resources throughout the fishery ecosystem, including measures that the Council or the Secretary deems appropriate to * * * (B) establish marine managed areas in the Exclusive Economic Zone. * * *” Inclusion of such a provision in the reauthorized Magnuson-Stevens Act would authorize the type of action recommended by the Council in Amendment 19. In addition, S. 2012, the Magnuson-Stevens Fishery Conservation and Management Reauthorization Act of 2005, includes a provision that would allow the Councils to “designate such zones ... to protect deep sea corals from physical damage from fishing gear or to prevent loss or damage to such fishing gear from interactions with deep sea corals, after considering long-term sustainable uses of fishery resources in such areas” (section 105). The administration bill further supports NMFS′ position that in its current form, the Magnuson-Stevens Act does not provide authority for ecosystem protection without a link to conservation and management of the fishery.

Comment 7: The Oregon Department of Fish and Wildlife proposed a change to the proposed Nehalem Bank/Shale Pile area in order to avoid impracticable impacts to the shrimp trawl industry. The change would replace the point at 45° 52.77′ N. lat., 124° 28.75′ W. long. with a point at 45° 55.63′ N. lat., 124° 30.516′ W. long.

Response: NMFS has determined that the suggested change is consistent with Amendment 19 in that it provides for substantial protection of rocky reef habitat within the constraints of practicability. Therefore, NMFS made the suggested change in this rule.

Comment 8: The Council forwarded a comment from their Enforcement Consultants (EC) that the definition of bottom longline in the proposed rule may have unforeseen consequences (unspecified).

Response: Bottom longline is defined as stationary, buoyed, and anchored groundline with hooks attached, so as to fish along the seabed. It does not include pelagic hook-and-line or troll gear. NMFS has determined that this definition is consistent with Amendment 19.

Comment 9: The Council forwarded a comment from their EC that the definition of midwater trawl includes language that may be redundant and unnecessary. The subject language is ”* * * on any part of the net or its component wires, ropes, and chains,” and refers to rollers, bobbins, or other elements of the gear specifically designed to contact the sea floor.

Response: The language ensures an objective standard to ensure midwater trawl nets are not modified to be fished in contact with the sea floor.

Comment 10: The Council forwarded a comment from their EC that the prohibition on bottom contact gear within Anacapa Island SMCA should be modified to allow recreational fishing for lobster by hand or hoop net; and, recreational fishing for pelagic fin fish by hook and line with terminal gear not more than six ounces in weight.

Response: NMFS has consulted with the California Department of Fish and Game to determine that recreational fishing for lobster or pelagic fin fish with bottom contacting gear does not occur in the subject area nor is it likely to do so. It is therefore unnecessary to make the distinction suggested by the commentor.

Comment 11: The Council forwarded a comment from their Groundfish Advisory Subpanel (GAP) that the definition of Trawl Fishing Line should be modified from “A length of chain or wire rope in the bottom front end of a trawl net to which the webbing or lead ropes are attached;” to, “A length of chain, rope, or wire rope in the bottom front end of a trawl net to which the webbing or lead ropes are attached.

Response 11: NMFS has made the suggested change for this final rule.

Comment 12: The Council forwarded a comment from their GAP that a definition of “stowed” should be included in the final rule as it relates to recreational gear.

Response: See NMFS response to Comment 16 in the following sections.

Comment 13: The Council forwarded a comment from their GAP that certain EFH Conservation areas, as defined in the proposed rule at section 660.395, should be downsized to reflect agreements between stakeholders.

Response: The coordinates in the proposed rule, and this final rule, were developed in consultation with the Council and its public comment process and accurately reflect the intent of Amendment 19.

Comment 14: The Council forwarded a comment from the GAP that, in the area adjacent to Soquel Canyon, the closed area line should follow the 60 fathom depth contour to avoid cutting off halibut trawl grounds and better reflect agreements by stakeholders.

Response: The coordinates in the proposed rule, and this final rule, were developed in consultation with the Council to specifically reflect stakeholder input and accurately implement Amendment 19.

Comment 15: The Council forwarded the following comment from their Groundfish Management Team (GMT). As part of the Council's action in June, the Council decided to prohibit fishing with dredge gear and beam trawl gear from the shore seaward to the outer edge of the EEZ (i.e., within state waters, but not in the bays and estuaries, and within the entire EEZ). The draft EFH regulations prohibit dredge gear and beam trawl gear only within the EEZ. The GMT believes there are advantages to including those prohibitions in the Federal regulations to apply from the shore including within state waters. Having the Federal rules in place will help facilitate the states taking conforming action. Also, having the rules in place in Federal regulations promotes consistency and will help ensure that the prohibitions will remain in place until the Council takes action to change or remove them.

Response: NMFS does not have authority to manage fishing within state waters, with limited exceptions. The Magnuson-Stevens Act provides NMFS with fishery management authority in the EEZ. If a state's action causes serious problems with carrying out an FMP, then NMFS may take action necessary to regulate the fishery in state (not internal) waters. In this case, NMFS is promulgating rules to minimize adverse effects from fishing on EFH in specific parts of the EEZ. NMFS will continue to work with the Council and coastal states to facilitate conforming action and full implementation of the intent of Amendment 19.

Comment 16: The Council forwarded the following comment from their GMT. The Council made an additional recommendation as part of the motion to forward the preceding advisory body comments (see comment 13 above). Any definition of recreational stowed gear should not include the phrase “no fishing gear other than a swivel attached to the line.” The GMT recommended an alternate definition to be “stowed recreational hook-and-line fishing gear is defined as hook-and-line gear with all line reeled to the reel or rod tip with the rod and reel placed on the vessel in a manner different than when actively fishing.”

Response: NMFS disagrees that a definition of stowed recreational gear is necessary. The GMT formulated this comment based on draft regulations to prohibit all fishing in specified areas. These regulations were not proposed. The proposed rule and this final rule do not have any prohibitions on all fishing and therefore it is unnecessary to include a definition of stowed recreational gear.

Changes from the Proposed Rule

NMFS is making eight changes from the proposed rule. Each change is described in the following text.

1. The Nehalem Bank/Shale Pile Groundfish EFH Conservation Area described at § 660.398(c) is changed to avoid impracticable impacts to the shrimp trawl industry. This change is made pursuant to Comment 7 in the preceding section. The point at 45° 52.77′ N. lat., 124° 28.75′ W. long. is replaced with a point at 45° 55.63′ N. lat., 124° 30.52′ W. long.

2. The definition of “Trawl Fishing Line” described at § 660.302 “Fishing Gear” (9)(iii)(J) is changed to provide a more accurate definition. This change is made pursuant to Comment 11 in the preceding section. The definition of Trawl Fishing Line is modified from “A length of chain or wire rope in the bottom front end of a trawl net to which the webbing or lead ropes are attached;” to, “A length of chain, rope, or wire rope in the bottom front end of a trawl net to which the webbing or lead ropes are attached.”

3. As a result of the partial approval of Amendment 19 that applies the management measures within EFH, the specific coordinates of groundfish EFH within the EEZ are added to § 660.395. For ease of specification and enforcement, straight lines approximating the latitude/longitude coordinates are used in the regulations.

4. The prohibition of dredge gear within the EEZ at § 660.306(a)(13) is changed to be effective within EFH within the EEZ. This change is pursuant to NMFS partial approval of Amendment 19 that only applies management measures within EFH.

5. The prohibition of beam trawl gear within the EEZ at § 660.306(a)(14) is changed to be effective within EFH within the EEZ. This change is pursuant to NMFS partial approval of Amendment 19 that applies management measures within EFH.

6. The prohibition of bottom trawling seaward of a line approximating 700 fm (1280 m) within the EEZ at § 660.306(h)(4) is changed to be effective within EFH within the EEZ. This change is pursuant to NMFS partial approval of Amendment 19 that applies management measures within EFH.

7. The prohibition of large footrope trawl gear greater than 19” in diameter within the EEZ at § 660.306(h)(5) is changed to be effective within EFH within the EEZ. This change is pursuant to NMFS partial approval of Amendment 19 that applies management measures within EFH.

8. The final rule contains minor, non-substantive technical changes from the proposed rule that improve the clarity and accuracy of the regulations.

Classification

This final rule has been determined to be not significant for purposes of Executive Order 12866.

Pursuant to Executive Order 13175, this final rule was developed after meaningful consultation and collaboration with tribal officials from the area covered by the Pacific Coast Groundfish FMP. NMFS does not intend for any of the regulations described below to apply to tribal fisheries in usual and accustomed grounds described in 50 CFR 660.324(c). NMFS will continue to work with the tribes towards the goal of ensuring that, within their usual and accustomed fishing grounds, adequate measures are in place to protect EFH.

NMFS prepared a FRFA that describes the impact that this final rule will have on small entities.

Typically a FRFA is based on the Initial Regulatory Flexibility Analysis (IRFA) and the comments received on the IRFA. There were no comments received on the IRFA (However as indicated in the comments above, NMFS did respond to several industry comments made by the Pacific Council's chief industry advisory group, the Groundfish Advisory Panel (see Comments 11,12,13, and 14) and by a request by the Oregon Department of Fish and Wildlife on behalf of the Oregon shrimp trawl industry (Comment 7)). A description of the action, why it is being considered, and the legal basis for this action are contained at the preamble to the proposed rule and this document. A copy of this analysis is available from NMFS (see ADDRESSES). A summary of the analysis follows.

NMFS is implementing regulations to minimize to the extent practicable adverse impacts from fishing to EFH. The regulations include restrictions on the type of fishing gear that may be used and the establishment of specific areas that would be closed to specified gear types. The action is fully described in this final rule and the preamble to the proposed rule.

The entities that would be directly regulated by this action are those that operate vessels fishing for groundfish, California and Pacific halibut, crab and lobster, shrimp, and species similar to groundfish including California sheephead and white croaker in Federal EEZ waters off of the Pacific coast. Although harvest and gross revenue information is confidential for individual vessels, all shorebased vessels fishing off the Pacific coast are considered small entities for purposes of the FRFA. Although the number of vessels engaged in Pacific coast fisheries will vary by year, the average is approximately 3,800 to 4,300. Of these, approximately 1,200 to 1,500 participate in groundfish fisheries; 1,200 to 1,400 participate in crab fisheries; and 215 to 330 participate in shrimp fisheries, and many of these vessels participate in all three fisheries. Many vessels participating in these fisheries will be directly regulated by this final rule.

A total of 23 alternatives (including sub-options and the final preferred alternative) to minimize fishing impacts to EFH were analyzed within the FEIS. A brief description of the alternatives analyzed and considered in addition to the preferred alternative is described below. For a more complete description of the alternatives, see chapter 2 of the FEIS. Five of the alternatives were designed to accomplish the objective of protecting EFH while minimizing economic impacts on small entities. These include three alternatives designed to close areas to trawling that are were analyzed to be non-critical to the economic future of the trawl industry based on historical trawling patterns, an alternative to prohibit geographic expansion of the trawl fishery (e.g., limiting the fishery to historically valuable areas), and an alternative to close specified areas and compensate impacted fishermen through private purchase of their permits. The final preferred alternative includes components that were compiled from discrete elements of the other alternatives. A detailed description of all the alternatives is available in the FEIS for this action (see ADDRESSES).

Generally speaking, NMFS attempted to develop alternatives with a wide range of economic effects. Data on costs and models that predicted industry responses to area closures were unavailable. As a result, the key indicator used for measuring economic impacts was “displaced” limited entry trawl revenues. (The limited entry trawl fleet is the primary industry sector affected by this rule. Displaced revenues are revenues associated with revenues earned in areas proposed for closure. These revenues are not necessarily lost as they can be recouped through increased fishing in the areas open to fishing. The IRFA and FEIS also refer to “displaced” revenues as “revenues at risk.”) In addition, a qualitative analysis of the alternatives was performed.

The management measures would result in the protection of 130,000 square miles (33,670,000 hectares) of habitat found in the U.S. exclusive economic zone off the West Coast of the U.S. This represents over 42 percent of the EEZ. Other alternatives analyzed in the FEIS protected amounts of habitat that are similar in quantity, but can be considered impracticable for various reasons. Of the alternatives protecting similar amounts of habitat, one is considered impracticable to administrative agencies because of the complexity of implementing the alternative, and one is considered impracticable because it would close the Dungeness crab fishery. The others were modified to reduce socioeconomic impacts to acceptable levels and included as part of the preferred alternative.

The final preferred alternative was determined to have the most acceptable socioeconomic impact on commercial fishers, recreational fishers, and communities. In general, the management measures are not expected to significantly curtail harvesting opportunities. Over the long-term, the measures may improve harvesting opportunities by enhancing the productivity of harvestable fish stocks. It is also concluded that this action would not result in any disproportionate economic impacts between large and small entities because those directly regulated by this action are all small entities. (Catcher-Processors, normally considered large entities, are not affected by this rule because they are mid-water trawlers; their nets do not touch bottom habitat.)

It should be noted that the regulations being implemented by this final rule reflect a process where the affected industry played a major role. This process included several meetings held by the industry itself to design alternatives which in some instances included meetings with other groups such as Oceana, provision of industry comment through the Council′s chief groundfish industry advisory group-the GAP, and direct public comment by many industry representatives at Council meetings. It also must be noted that industry comment through the various state public comment processes employed by the States of California, Oregon, and Washington led to three state- based motions at Council meetings. These three motions were combined into a coastwide preferred alternative adopted by the Council for the NMFS approval and implementation alternative.

Table 60 of Volume 7 of the FEIS titled “Comparison of Protected Area and Trawl Revenues at Risk Over 4 Years by Alternative” provides more summary detail on the alternatives. This table compares two different methods for estimating total revenues at risk over a four year period based on the proportion of 10 mile x 10 mile blocks of area closed. For example, the revenues at risk estimates range from $8,523,085 to $36,292,783 million for the preferred alternative. The estimates vary depending on assumptions of the degree that a particular 10 x 10 area of ocean is closed and enforced. The low estimate is based on the assumption that within any given 10 x 10 block the actual closure area is exactly equal to the particular amounts of habitat (e.g. rocky reefs) that are being protected. The high estimate is based on closure of the entire block.

Several options, taken in isolation, would have fewer economic impacts than the final preferred bundled alternative. However, the final preferred bundled alternative would be consistent with the goals and objectives of the Magnuson-Stevens Act, especially the mandate to minimize to the extent practicable adverse effects of fishing on EFH. These alternatives not selected for implementation include C.3.1 (Close Sensitive Habitat Option 1 -- $181,973 to $1,001,952), C.3.2 (Close Sensitive Habitat Option 2 $934,795 to $1,531,975), C.4.1 (Prohibit Geographic Expansion of Fishing Option 1 $88,941 to $88,941 (no difference between estimates)), C.4.2 (Prohibit Geographic Expansion of Fishing Option 2 $88,941 to $88,941 (no differences between estimates and with C.4.2 Option 1)), C.7.1 and C.7.2 (Close Areas of Interest $12.601,536 to $29,471,349, and C.10 (Central CA Trawl Zones $5,664,512 to $5,886,370).

Table 60 of Volume 7 of the FEIS also provides more summary detail on the alternatives. This table compares two different methods for estimating total revenues at risk over a four year period based on the proportion of 10 mile x 10 mile blocks of area closed. For example, the revenues at risk estimates range from $8,523,085 to $36,292,783 million for the preferred alternative. The estimates vary depending on assumptions of the degree that a particular 10 x 10 area of ocean is closed and enforced. The low estimate is based on the assumption that we within any given 10 x 10 block the actual closure area is exactly equal to the particular amounts of habitat (e.g. rocky reefs) that are being protected. The high estimate is based on closure of the entire block.

Several options, taken in isolation, would have fewer economic impacts than the final preferred bundled alternative. However, the final preferred bundled alternative would be more consistent with the goals and objectives of the Magnuson-Stevens Act, especially the mandate to minimize to the extent practicable adverse effects of fishing on EFH. These alternatives not selected for implementation include C.3.1 (Close Sensitive Habitat Option 1 -- $181,973 to $1,001,952), C.3.2 (Close Sensitive Habitat Option 2 $934,795 to $1,531,975), C.4.1 (Prohibit Geographic Expansion of Fishing Option 1 $88,941 to $88,941 (no difference between estimates)), C.4.2 (Prohibit Geographic Expansion of Fishing Option 2 $88,941 to $88,941 (no differences between estimates and with C.4.2 Option 1)), C.7.1 and C.7.2 (Close Areas of Interest $12.601,536 to $29,471,349, and C.10 (Central CA Trawl Zones $5,664,512 to $5,886,370).

Conversely, several options would have more severe economic impacts than the final preferred bundled alternative. However, the final preferred bundled alternative would be more consistent with the goals and objectives of the Magnuson-Stevens Act, especially the mandate to minimize to the extent practicable adverse effects of fishing on EFH. These alternatives not selected for implementation include C.3.3 (Close Sensitive Habitat Option 3 $3,723,698 to $47,115,054), C.3.4 (Close Sensitive Habitat Option 4 $58,458,226 to $82,895,532), C.6 (Close Hotspots $41,662,276 to $78,094,177), C.12 (Close Ecological Important Areas to Bottom Trawl 19,242,920 to $46,252,563), C.13 (Close Ecological Important Areas to Bottom-contacting gear $19,242,920 to $46,252,563), and C.14 (Close Ecological Important Areas to Fishing 19,242,920 to $46,252,563). (The revenue at risk estimates do not vary between alternatives C.12-C.14)

In addition, NMFS was unable to calculate the economic impacts in terms of revenues at risk for total 10 x 10 block areas for several alternatives due to lack of information. These alternatives not selected for implementation include C.2.1 (Depth Based Gear Restrictions Option 1 Large Footrope Depth Restriction 200 fm and Fixed Gear Depth Restriction 100/150 fm), C.2.2 (Depth-Based Gear Restrictions Option 1 Large Footrope Depth Restriction EEZ and Fixed Gear Depth Restriction 100/150 fm), and C.2.3 (Depth Based Gear Restrictions Option 1 Large Footrope Depth Restriction 200 fm and Fixed Gear Depth Restriction 60 fm), and C.8.1 and C.8.2 (Zoning Fishing Activities, options 1 and 2).

Finally, NMFS has determined that the economic impacts of several alternatives are non-existent or neutral for a variety of reasons. These alternatives not selected for implementation include C.1 (No Action), C.5 (Prohibit Krill Fishery), C.9 (Gear Restrictions), and C.11 (Relax Gear Endorsements).

There are no new reporting or recordkeeping requirements that are part of this action. No Federal rules have been identified that duplicate, overlap, or conflict with the alternatives.

NMFS issued Biological Opinions (BOs) under the Endangered Species Act on August 10, 1990, November 26, 1991, August 28, 1992, September 27, 1993, May 14, 1996, and December 15, 1999, analyzing the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Ozette Lake), and steelhead (upper, middle and lower Columbia River, Snake River Basin, upper Willamette River, central California coast, California Central Valley, south-central California, northern California, and southern California). During the 2000 Pacific whiting season, the whiting fisheries exceeded the chinook bycatch amount specified in the most recent Biological Opinion′s (whiting BO) (December 19, 1999) incidental catch statement estimate of 11,000 fish, by approximately 500 fish. In the 2001 whiting season, however, the whiting fishery′s chinook bycatch was about 7,000 fish, which approximates the long-term average. After reviewing data from, and management of, the 2000 and 2001 whiting fisheries (including industry bycatch minimization measures), the status of the affected listed chinook, environmental baseline information, and the incidental catch statement from the 1999 whiting BO, NMFS determined in a letter dated April 25, 2002, that a re-initiation of consultation for the whiting fishery was not required. NMFS has concluded that implementation of the FMP for the Pacific Coast groundfish fishery is not expected to jeopardize the continued existence of any endangered or threatened species under the jurisdiction of NMFS, or result in the destruction or adverse modification of critical habitat. This action is within the scope of these consultations. In addition, NMFS issued a supplemental BO on March 11, 2006, that addressed the incidental take exceedence of the whiting fishery and determined no jeopardy.

Section 212 of the Small Business Regulatory Enforcement Fairness Act of 1996 states that, for each rule or group of related rules for which an agency is required to prepare a FRFA, the agency shall publish one or more guides to assist small entities in complying with the rule, and shall designate such publications as a “small entity compliance guide.” The agency shall explain the actions a small entity is required to take to comply with a rule or group of rules. As part of this rulemaking process, a public notice, that also serves as small entity compliance guide, was prepared. Copies of the public notice will be mailed to all limited entry permit holders, e-mailed to all recipients of the westcoastgroundfish@noaa.gov listserv, faxed to recipients on our groundfish public notice fax list, and posted on our website at www.nwr.noaa.gov. The public notice and this final rule will be available upon request from the Northwest Regional Office (see ADDRESSES).

List of Subjects in 50 CFR Part 660

Administrative practice and procedure, Fisheries, Fishing, Indians.

Dated: May 4, 2006.
James W. Balsiger,
Acting Deputy Assistant Administrator for Regulatory Programs, National Marine Fisheries Service.

For the reasons set out in the preamble, NMFS is amending 50 CFR part 660 as follows:

PART 660—FISHERIES OFF WEST COAST STATES

1. The authority citation for part 660 continues to read as follows:

Authority: 16 U.S.C. 1801 et seq.

2. In § 660.301, paragraph (a) is revised as follows:

§ 660.301 Purpose and scope.

(a) This subpart implements the Pacific Coast Groundfish Fishery Management Plan (PCGFMP) developed by the Pacific Fishery Management Council. This subpart governs fishing vessels of the U.S. in the EEZ off the coasts of Washington, Oregon, and California. All weights are in round weight or round-weight equivalents, unless specified otherwise.

3. In § 660.302, a definition for “Essential Fish Habitat or EFH” is added in alphabetical order, and the definition for “Fishing gear” is revised to read as follows:

§ 660.302 Definitions.

Essential Fish Habitat or EFH. (See § 600.10).

Fishing gear includes the following types of gear and equipment:

(1) Bottom contact gear. Fishing gear designed or modified to make contact with the bottom. This includes, but is not limited to, beam trawl, bottom trawl, dredge, fixed gear, set net, demersal seine, dinglebar gear, and other gear (including experimental gear) designed or modified to make contact with the bottom. Gear used to harvest bottom dwelling organisms (e.g. by hand, rakes, and knives) are also considered bottom contact gear for purposes of this subpart.

(2) Demersal seine. A net designed to encircle fish on the seabed. The Demersal seine is characterized by having its net bounded by lead-weighted ropes that are not encircled with bobbins or rollers. Demersal seine gear is fished without the use of steel cables or otter boards (trawl doors). Scottish and Danish Seines are demersal seines. Purse seines, as defined at § 600.10, are not demersal seines. Demersal seine gear is included in the definition of bottom trawl gear in (11)(i) of this subsection.

(3) Dredge gear. Dredge gear, with respect to the U.S. West Coast EEZ, refers to a gear consisting of a metal frame attached to a holding bag constructed of metal rings or mesh. As the metal frame is dragged upon or above the seabed, fish are pushed up and over the frame, then into the mouth of the holding bag.

(4) Entangling nets include the following types of net gear:

(i) Gillnet. (See § 600.10).

(ii) Set net. A stationary, buoyed, and anchored gillnet or trammel net.

(iii) Trammel net. A gillnet made with two or more walls joined to a common float line.

(5) Fixed gear (anchored nontrawl gear) includes the following gear types: longline, trap or pot, set net, and stationary hook-and-line (including commercial vertical hook-and-line) gears.

(6) Hook-and-line. One or more hooks attached to one or more lines. It may be stationary (commercial vertical hook-and-line) or mobile (troll).

(i) Bottom longline. A stationary, buoyed, and anchored groundline with hooks attached, so as to fish along the seabed. It does not include pelagic hook-and-line or troll gear.

(ii) Commercial vertical hook-and-line. Commercial fishing with hook-and-line gear that involves a single line anchored at the bottom and buoyed at the surface so as to fish vertically.

(iii) Dinglebar gear. One or more lines retrieved and set with a troll gurdy or hand troll gurdy, with a terminally attached weight from which one or more leaders with one or more lures or baited hooks are pulled through the water while a vessel is making way.

(iv) Troll gear. A lure or jig towed behind a vessel via a fishing line. Troll gear is used in commercial and recreational fisheries.

(7) Mesh size. The opening between opposing knots. Minimum mesh size means the smallest distance allowed between the inside of one knot to the inside of the opposing knot, regardless of twine size.

(8) Nontrawl gear. All legal commercial groundfish gear other than trawl gear.

(9) Spear. A sharp, pointed, or barbed instrument on a shaft.

(10) Trap or pot. These terms are used as interchangeable synonyms. See § 600.10 definition of “trap”.

(11) Trawl gear. (See § 600.10)

(i) Bottom trawl. A trawl in which the otter boards or the footrope of the net are in contact with the seabed. It includes demersal seine gear, and pair trawls fished on the bottom. Any trawl not meeting the requirements for a midwater trawl in § 660.381 is a bottom trawl.

(A) Beam trawl gear. A type of trawl gear in which a beam is used to hold the trawl open during fishing. Otter boards or doors are not used.

(B) Large footrope trawl gear. Large footrope gear is bottom trawl gear with a footrope diameter larger than 8 inches (20 cm,) and no larger than 19 inches (48 cm) including any rollers, bobbins, or other material encircling or tied along the length of the footrope.

(C) Small footrope trawl gear. Small footrope trawl gear is bottom trawl gear with a footrope diameter of 8 inches (20 cm) or smaller, including any rollers, bobbins, or other material encircling or tied along the length of the footrope. Selective flatfish trawl gear that meets the gear component requirements in § 660.381 is a type of small footrope trawl gear.

(ii) Midwater (pelagic or off-bottom) trawl. A trawl in which the otter boards and footrope of the net remain above the seabed. It includes pair trawls if fished in midwater. A midwater trawl has no rollers or bobbins on any part of the net or its component wires, ropes, and chains.

(iii) Trawl gear components.

(A) Breastline. A rope or cable that connects the end of the headrope and the end of the trawl fishing line along the edge of the trawl web closest to the towing point.

(B) Chafing gear. Webbing or other material attached to the codend of a trawl net to protect the codend from wear.

(C) Codend. (See § 600.10).

(D) Double-bar mesh. Webbing comprised of two lengths of twine tied into a single knot.

(E) Double-walled codend. A codend constructed of two walls of webbing.

(F) Footrope. A chain, rope, or wire attached to the bottom front end of the trawl webbing forming the leading edge of the bottom panel of the trawl net, and attached to the fishing line.

(G) Headrope. A chain, rope, or wire attached to the trawl webbing forming the leading edge of the top panel of the trawl net.

(H) Rollers or bobbins are devices made of wood, steel, rubber, plastic, or other hard material that encircle the trawl footrope. These devices are commonly used to either bounce or pivot over seabed obstructions, in order to prevent the trawl footrope and net from snagging on the seabed.

(I) Single-walled codend. A codend constructed of a single wall of webbing knitted with single or double-bar mesh.

(J) Trawl fishing line. A length of chain, rope, or wire rope in the bottom front end of a trawl net to which the webbing or lead ropes are attached.

(K) Trawl riblines. Heavy rope or line that runs down the sides, top, or underside of a trawl net from the mouth of the net to the terminal end of the codend to strengthen the net during fishing.

4. In § 660.306, paragraphs (a)(13), (a)(14), and (h)(4) through (h)(10) are added to read as follows:

§ 660.306 Prohibitions.

(a) * * *

(13) Fish with dredge gear (defined in § 660.302) anywhere within EFH within the EEZ. For the purposes of regulation, EFH within the EEZ is described at 660.395.

(14) Fish with beam trawl gear (defined in § 660.302) anywhere within EFH within the EEZ. For the purposes of regulation, EFH within the EEZ is described at 660.395.

(h) * * *

(4) Fish with bottom trawl gear (defined in § 660.302) anywhere within EFH within the EEZ seaward of a line approximating the 700-fm (1280-m) depth contour, as defined in § 660.396. For the purposes of regulation, EFH seaward of 700-fm (1280-m) within the EEZ is described at 660.395.

(5) Fish with bottom trawl gear (defined in § 660.302) with a footrope diameter greater than 19 inches (48 cm) (including rollers, bobbins or other material encircling or tied along the length of the footrope) anywhere within EFH within the EEZ. For the purposes of regulation, EFH within the EEZ is described at 660.395.

(6) Fish with bottom trawl gear (defined in § 660.302) with a footrope diameter greater than 8 inches (20 cm) (including rollers, bobbins or other material encircling or tied along the length of the footrope) anywhere within the EEZ shoreward of a line approximating the 100-fm (183-m) depth contour (defined in § 660.393).

(7) Fish with bottom trawl gear (as defined in § 660.302), within the EEZ in the following areas (defined in § 660.397 and § 660.398): Olympic 2, Biogenic 1, Biogenic 2, Grays Canyon, Biogenic 3, Astoria Canyon, Nehalem Bank/Shale Pile, Siletz Deepwater, Daisy Bank/Nelson Island, Newport Rockpile/Stonewall Bank, Heceta Bank, Deepwater off Coos Bay, Bandon High Spot, Rogue Canyon.

(8) Fish with bottom trawl gear (as defined in § 660.302), other than demersal seine, unless otherwise specified in this section or section 660.381, within the EEZ in the following areas (defined in § 660.399): Eel River Canyon, Blunts Reef, Mendocino Ridge, Delgada Canyon, Tolo Bank, Point Arena North, Point Arena South Biogenic Area, Cordell Bank/Biogenic Area, Farallon Islands/Fanny Shoal, Half Moon Bay, Monterey Bay/Canyon, Point Sur Deep, Big Sur Coast/Port San Luis, East San Lucia Bank, Point Conception, Hidden Reef/Kidney Bank (within Cowcod Conservation Area West), Catalina Island, Potato Bank (within Cowcod Conservation Area West), Cherry Bank (within Cowcod Conservation Area West), and Cowcod EFH Conservation Area East.

(9) Fish with bottom contact gear (as defined in § 660.302) within the EEZ in the following areas (defined in § 660.398 and § 660.399): Thompson Seamount, President Jackson Seamount, Cordell Bank (50-fm (91-m) isobath), Harris Point, Richardson Rock, Scorpion, Painted Cave, Anacapa Island, Carrington Point, Judith Rock, Skunk Point, Footprint, Gull Island, South Point, and Santa Barbara.

(10) Fish with bottom contact gear (as defined in § 660.302), or any other gear that is deployed deeper than 500-fm (914-m), within the Davidson Seamount area (defined in § 660.395).

5. In § 660.385, the introductory text is revised to read as follows:

§ 660.385 Washington coastal tribal fisheries management measures.

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes usual and accustomed fishing areas (described at § 660.324). Measures implemented to minimize adverse impacts to groundfish EFH, as described in § 660.306, do not apply to tribal fisheries in their usual and accustomed fishing areas (described in § 660.324). Treaty fisheries operating within tribal allocations are prohibited from operating outside ususal and accustomed fishing areas. Tribal fishery allocations for sablefish and whiting, are provided in paragraphs (a) and (e) of this section, respectively, and the tribal harvest guideline for black rockfish is provided in paragraph (b)(1) of this section. Trip limits for certain species were recommended by the tribes and the Council and are specified here with the tribal allocations.

6. Section 660.395 is added to read as follows:

§ 660.395 Essential Fish Habitat (EFH)

Essential fish habitat (EFH) is defined as those waters and substrate necessary to fish for spawning, breeding, feeding or growth to maturity (16 U.S.C. 1802 (10). EFH for Pacific Coast Groundfish includes all waters and substrate within areas with a depth less than or equal to 3,500 m (1,914 fm) shoreward to the mean higher high water level or the upriver extent of saltwater intrusion (defined as upstream and landward to where ocean-derived salts measure less than 0.5 parts per thousand during the period of average annual low flow). Seamounts in depths greater than 3,500 m (1,914 fm) are also included due to their ecological importance to groundfish. Geographically, EFH for Pacific Coast groundfish includes both a large band of marine waters that extends from the Northern edge of the EEZ at the U.S. border with Canada to the Southern edge of the EEZ at the U.S. border with Mexico, and inland within bays and estuaries. The seaward extent of EFH is consistent with the westward edge of the EEZ for areas approximately north of Cape Mendocino. Approximately south of Cape Mendocino, the 3500 m depth contour and EFH is substantially shoreward of the seaward boundary of the EEZ. There are also numerous discrete areas seaward of the main 3500 m depth contour where the ocean floor rises to depths less than 3500 m and therefore are also EFH. The seaward boundary of EFH and additional areas of EFH are defined by straight lines connecting a series of latitude and longitude coordinates in § 660.395(a) through § 660.395(qq).

(a) The seaward boundary of EFH, with the exception of the areas in paragraphs (b) through (qq), is bounded by the EEZ combined with a straight line connecting all of the following points in the order stated:

(1) 40°18.17′ N. lat., 128°46.72′ W. long.;

(2) 40°17.33′ N. lat., 125°58.62′ W. long.;

(3) 39°59.10′ N. lat., 125°44.13′ W. long.;

(4) 39°44.99′ N. lat., 125°41.63′ W. long.;

(5) 39°29.98′ N. lat., 125°23.86′ W. long.;

(6) 39°08.46′ N. lat., 125°38.17′ W. long.;

(7) 38°58.71′ N. lat., 125°22.33′ W. long.;

(8) 38°33.22′ N. lat., 125°16.82′ W. long.;

(9) 38°50.47′ N. lat., 124°53.20′ W. long.;

(10) 38°51.66′ N. lat., 124°35.15′ W. long.;

(11) 37°48.74′ N. lat., 123°53.79′ W. long.;

(12) 37°45.53′ N. lat., 124°03.18′ W. long.;

(13) 37°05.55′ N. lat., 123°46.18′ W. long.;

(14) 36°41.37′ N. lat., 123°25.16′ W. long.;

(15) 36°24.44′ N. lat., 123°25.03′ W. long.;

(16) 36°10.47′ N. lat., 123°31.11′ W. long.;

(17) 35°57.97′ N. lat., 123°21.33′ W. long.;

(18) 36°05.20′ N. lat., 123°15.17′ W. long.;

(19) 36°01.23′ N. lat., 123°04.04′ W. long.;

(20) 35°29.75′ N. lat., 123°02.44′ W. long.;

(21) 35°22.25′ N. lat., 122°58.24′ W. long.;

(22) 35°21.91′ N. lat., 122°34.83′ W. long.;

(23) 35°34.35′ N. lat., 122°25.83′ W. long.;

(24) 34°57.35′ N. lat., 122°07.03′ W. long.;

(25) 34°20.19′ N. lat., 121°33.92′ W. long.;

(26) 33°55.10′ N. lat., 121°43.15′ W. long.;

(27) 33°39.65′ N. lat., 121°28.35′ W. long.;

(28) 33°40.68′ N. lat., 121°23.06′ W. long.;

(29) 33°26.19′ N. lat., 121°06.16′ W. long.;

(30) 33°03.77′ N. lat., 121°34.33′ W. long.;

(31) 32°46.38′ N. lat., 121°02.84′ W. long.;

(32) 33°05.45′ N. lat., 120°40.71′ W. long.;

(33) 32°12.70′ N. lat., 120°10.85′ W. long.;

(34) 32°11.36′ N. lat., 120°03.19′ W. long.;

(35) 32°00.77′ N. lat., 119°50.68′ W. long.;

(36) 31°52.47′ N. lat., 119°48.11′ W. long.;

(37) 31°45.43′ N. lat., 119°40.89′ W. long.;

(38) 31°41.96′ N. lat., 119°28.57′ W. long.;

(39) 31°35.10′ N. lat., 119°33.50′ W. long.;

(40) 31°24.37′ N. lat., 119°29.61′ W. long.;

(41) 31°26.74′ N. lat., 119°18.47′ W. long.;

(42) 31°03.75′ N. lat., 118°59.58′ W. long.

(b) This area of EFH is bounded by straight lines connecting all of the following points in the order stated:

(1) 31°11.94′ N. lat., 121°57.84′ W. long.;

(2) 31°06.87′ N. lat., 121°57.42′ W. long.;

(3) 31°06.29′ N. lat., 122°09.22′ W. long.;

(4) 31°11.39′ N. lat., 122°09.10′ W. long.;

and connecting back to 31°11.94′ N. lat., 121°57.84′ W. long.

(c) This area of EFH is bounded by straight lines connecting all of the following points in the order stated:

(1) 31°11.21′ N. lat., 122°10.24′ W. long.;

(2) 31°07.62′ N. lat., 122°09.62′ W. long.;

(3) 31°07.40′ N. lat., 122°19.34′ W. long.;

(4) 31°12.84′ N. lat., 122°18.82′ W. long.;

and connecting back to 31°11.21′ N. lat., 122°10.24′ W. long.

(d) This area of EFH is bounded by straight lines connecting all of the following points in the order stated:

(1) 31°06.87′ N. lat., 119°28.05′ W. long.;

(2) 30°58.83′ N. lat., 119°26.74′ W. long.;

(3) 30°55.41′ N. lat., 119°45.63′ W. long.;

(4) 31°05.90′ N. lat., 119°42.05′ W. long.;

and connecting back to 31°06.87′ N. lat., 119°28.05′ W. long.

(e) This area of EFH is bounded by straight lines connecting all of the following points in the order stated:

(1) 31°02.05′ N. lat., 119°08.97′ W. long.;

(2) 31°04.96′ N. lat., 119°09.96′ W. long.;

(3) 31°06.24′ N. lat., 119°07.45′ W. long.;

(4) 31°02.63′ N. lat., 119°05.77′ W. long.;

and connecting back to 31°02.05′ N. lat., 119°08.97′ W. long.

(f) This area of EFH is bounded by straight lines connecting all of the following points in the order stated:

(1) 31°23.41′ N. lat., 122°23.99′ W. long.;

(2) 31°25.98′ N. lat., 122°23.67′ W. long.;

(3) 31°25.52′ N. lat., 122°21.95′ W. long.;

(4) 31°23.51′ N. lat., 122°21.98′ W. long.;

and connecting back to 31°23.41′ N. lat., 122°23.99′ W. long.

(g) This area of EFH is bounded by straight lines connecting all of the following points in the order stated:

(1) 31°21.95′ N. lat., 122°25.05′ W. long.;

(2) 31°23.31′ N. lat., 122°27.73′ W. long.;

(3) 31°26.63′ N. lat., 122°27.64′ W. long.;

(4) 31°26.72′ N. lat., 122°25.23′ W. long.;

and connecting back to 31°21.95′ N. lat., 122°25.05′ W. long.

(h) This area of EFH is bounded by straight lines connecting all of the following points in the order stated:

(1) 31°21.36′ N. lat., 119°47.67′ W. long.;

(2) 31°29.17′ N. lat., 119°48.51′ W. long.;

(3) 31°29.48′ N. lat., 119°43.20′ W. long.;

(4) 31°21.92′ N. lat., 119°40.68′ W. long.;

and connecting back to 31°21.36′ N. lat., 119°47.67′ W. long.

(i) This area of EFH is bounded by straight lines connecting all of the following points in the order stated:

(1) 31°37.36′ N. lat., 122°20.86′ W. long.;

(2) 31°41.22′ N. lat., 122°21.35′ W. long.;

(3) 31°42.68′ N. lat., 122°18.80′ W. long.;

(4) 31°39.71′ N. lat., 122°15.99′ W. long.;

and connecting back to 31°37.36′ N. lat., 122°20.86′ W. long.

(j) This area of EFH is bounded by straight lines connecting all of the following points in the order stated:

(1) 31°45.92′ N. lat., 121°40.55′ W. long.;

(2) 31°48.79′ N. lat., 121°40.52′ W. long.;

(3) 31°48.61′ N. lat., 121°37.65′ W. long.;

(4) 31°45.93′ N. lat., 121°38.00′ W. long.;

and connecting back to 31°45.92′ N. lat., 121°40.55′ W. long.

(k) This area of EFH is bounded by straight lines connecting all of the following points in the order stated:

(1) 31°36.78′ N. lat., 120°54.41′ W. long.;

(2) 31°44.65′ N. lat., 120°58.01′ W. long.;

(3) 31°48.56′ N. lat., 120°43.25′ W. long.;

(4) 31°41.76′ N. lat., 120°41.50′ W. long.;

and connecting back to 31°36.78′ N. lat., 120°54.41′ W. long.

(l) This area of EFH is bounded by straight lines connecting all of the following points in the order stated:

(1) 31°45.66′ N. lat., 123°17.00′ W. long.;

(2) 31°49.43′ N. lat., 123°19.89′ W. long.;

(3) 31°54.54′ N. lat., 123°14.91′ W. long.;

(4) 31°50.88′ N. lat., 123°13.17′ W. long.;

and connecting back to 31°45.66′ N. lat., 123°17.00′ W. long.

(m) This area of EFH is bounded by straight lines connecting all of the following points in the order stated:

(1) 31°55.28′ N. lat., 121°02.98′ W. long.;

(2) 31°58.25′ N. lat., 121°05.08′ W. long.;

(3) 31°59.77′ N. lat., 121°00.37′ W. long.;

(4) 31°57.88′ N. lat., 120°57.23′ W. long.;

and connecting back to 31°55.28′ N. lat., 121°02.98′ W. long.

(n) This area of EFH is bounded by straight lines connecting all of the following points in the order stated:

(1) 32°06.04′ N. lat., 121°29.08′ W. long.;

(2) 31°59.52′ N. lat., 121°23.10′ W. long.;

(3) 31°54.55′ N. lat., 121°31.53′ W. long.;

(4) 32°01.66′ N. lat., 121°38.38′ W. long.;

and connecting back to 32°06.04′ N. lat., 121°29.08′ W. long.

(o) This area of EFH is bounded by straight lines connecting all of the following points in the order stated:

(1) 31°59.89′ N. lat., 119°54.82′ W. long.;

(2) 31°59.69′ N. lat., 120°03.96′ W. long.;

(3) 32°04.47′ N. lat., 120°00.09′ W. long.;

and connecting back to 31°59.89′ N. lat., 119°54.82′ W. long.

(p) This area of EFH is bounded by straight lines connecting all of the following points in the order stated:

(1) 31°59.49′ N. lat., 121°18.59′ W. long.;

(2) 32°08.15′ N. lat., 121°22.16′ W. long.;

(3) 32°12.16′ N. lat., 121°14.64′ W. long.;

(4) 32°04.15′ N. lat., 121°08.61′ W. long.;

and connecting back to 31°59.49′ N. lat., 121°18.59′ W. long.

(q) This area of EFH is bounded by straight lines connecting all of the following points in the order stated:

(1) 32°07.77′ N. lat., 121°46.26′ W. long.;

(2) 32°05.89′ N. lat., 121°38.01′ W. long.;

(3) 31°59.35′ N. lat., 121°52.10′ W. long.;

(4) 32°08.86′ N. lat., 121°52.13′ W. long.;

(5) 32°19.76′ N. lat., 121°43.70′ W. long.;

(6) 32°14.85′ N. lat., 121°37.16′ W. long.;

and connecting back to 32°07.77′ N. lat., 121°46.26′ W. long.

(r) This area of EFH is bounded by straight lines connecting all of the following points in the order stated:

(1) 32°17.08′ N. lat., 121°11.84′ W. long.;

(2) 32°18.96′ N. lat., 121°14.15′ W. long.;

(3) 32°23.03′ N. lat., 121°10.52′ W. long.;

(4) 32°21.23′ N. lat., 121°08.53′ W. long.;

and connecting back to 32°17.08′ N. lat., 121°11.84′ W. long.

(s) This area of EFH is bounded by straight lines connecting all of the following points in the order stated:

(1) 32°27.64′ N. lat., 121°27.83′ W. long.;

(2) 32°15.43′ N. lat., 121°23.89′ W. long.;

(3) 32°16.18′ N. lat., 121°30.67′ W. long.;

(4) 32°25.80′ N. lat., 121°33.08′ W. long.;

and connecting back to 32°27.64′ N. lat., 121°27.83′ W. long.

(t) This area of EFH is bounded by straight lines connecting all of the following points in the order stated:

(1) 32°28.05′ N. lat., 122°03.54′ W. long.;

(2) 32°30.64′ N. lat., 122°06.11′ W. long.;

(3) 32°35.90′ N. lat., 121°59.61′ W. long.;

(4) 32°32.05′ N. lat., 121°54.66′ W. long.;

and connecting back to 32°28.05′ N. lat., 122°03.54′ W. long.

(u) This area of EFH is bounded by straight lines connecting all of the following points in the order stated:

(1) 32°44.69′ N. lat., 121°39.99′ W. long.;

(2) 32°43.72′ N. lat., 121°43.03′ W. long.;

(3) 32°47.31′ N. lat., 121°43.91′ W. long.;

(4) 32°48.21′ N. lat., 121°40.74′ W. long.;

and connecting back to 32°44.69′ N. lat., 121°39.99′ W. long.

(v) This area of EFH is bounded by straight lines connecting all of the following points in the order stated:

(1) 32°48.07′ N. lat., 121°15.86′ W. long.;

(2) 32°36.99′ N. lat., 121°20.21′ W. long.;

(3) 32°25.33′ N. lat., 121°38.31′ W. long.;

(4) 32°34.03′ N. lat., 121°44.05′ W. long.;

(5) 32°43.19′ N. lat., 121°41.58′ W. long.;

and connecting back to 32°48.07′ N. lat., 121°15.86′ W. long.

(w) This area of EFH is bounded by straight lines connecting all of the following points in the order stated:

(1) 32°48.38′ N. lat., 120°47.95′ W. long.;

(2) 32°47.49′ N. lat., 120°41.50′ W. long.;

(3) 32°43.79′ N. lat., 120°42.01′ W. long.;

(4) 32°44.01′ N. lat., 120°48.79′ W. long.;

and connecting back to 32°48.38′ N. lat., 120°47.95′ W. long.

(x) This area of EFH is bounded by straight lines connecting all of the following points in the order stated:

(1) 33°08.71′ N. lat., 121°41.24′ W. long.;

(2) 33°00.10′ N. lat., 121°37.67′ W. long.;

(3) 33°01.01′ N. lat., 121°45.93′ W. long.;

(4) 33°07.71′ N. lat., 121°46.31′ W. long.;

and connecting back to 33°08.71′ N. lat., 121°41.24′ W. long.

(y) This area of EFH is bounded by straight lines connecting all of the following points in the order stated:

(1) 33°19.30′ N. lat., 121°54.69′ W. long.;

(2) 33°11.41′ N. lat., 121°47.26′ W. long.;

(3) 32°56.93′ N. lat., 121°54.41′ W. long.;

(4) 33°03.85′ N. lat., 122°03.52′ W. long.;

(5) 33°17.73′ N. lat., 122°00.05′ W. long.;

and connecting back to 33°19.30′ N. lat., 121°54.69′ W. long.

(z) This area of EFH is bounded by straight lines connecting all of the following points in the order stated:

(1) 33°23.67′ N. lat., 123°04.28′ W. long.;

(2) 33°22.88′ N. lat., 123°04.93′ W. long.;

(3) 33°23.66′ N. lat., 123°05.77′ W. long.;

(4) 33°24.30′ N. lat., 123°04.90′ W. long.;

and connecting back to 33°23.67′ N. lat., 123°04.28′ W. long.

(aa) This area of EFH is bounded by straight lines connecting all of the following points in the order stated:

(1) 33°26.06′ N. lat., 121°44.42′ W. long.;

(2) 33°32.00′ N. lat., 121°41.61′ W. long.;

(3) 33°28.80′ N. lat., 121°26.92′ W. long.;

(4) 33°23.50′ N. lat., 121°26.92′ W. long.;

and connecting back to 33°26.06′ N. lat., 121°44.42′ W. long.

(bb) This area of EFH is bounded by straight lines connecting all of the following points in the order stated:

(1) 33°38.22′ N. lat., 123°56.91′ W. long.;

(2) 33°39.58′ N. lat., 123°58.56′ W. long.;

(3) 33°41.37′ N. lat., 123°57.22′ W. long.;

(4) 33°40.08′ N. lat., 123°55.14′ W. long.;

and connecting back to 33°38.22′ N. lat., 123°56.91′ W. long.

(cc) This area of EFH is bounded by straight lines connecting all of the following points in the order stated:

(1) 33°46.86′ N. lat., 121°58.49′ W. long.;

(2) 33°41.28′ N. lat., 121°52.80′ W. long.;

(3) 33°36.95′ N. lat., 121°54.42′ W. long.;

(4) 33°42.05′ N. lat., 122°07.48′ W. long.;

(5) 33°47.07′ N. lat., 122°05.71′ W. long.;

and connecting back to 33°46.86′ N. lat., 121°58.49′ W. long.

(dd) This area of EFH is bounded by straight lines connecting all of the following points in the order stated:

(1) 34°17.70′ N. lat., 124°11.04′ W. long.;

(2) 34°19.41′ N. lat., 124°14.12′ W. long.;

(3) 34°21.61′ N. lat., 124°12.89′ W. long.;

(4) 34°20.35′ N. lat., 124°09.11′ W. long.;

and connecting back to 34°17.70′ N. lat., 124°11.04′ W. long.

(ee) This area of EFH is bounded by straight lines connecting all of the following points in the order stated:

(1) 34°13.39′ N. lat., 124°03.18′ W. long.;

(2) 34°19.45′ N. lat., 124°09.21′ W. long.;

(3) 34°23.12′ N. lat., 124°05.49′ W. long.;

(4) 34°17.93′ N. lat., 123°57.87′ W. long.;

and connecting back to 34°13.39′ N. lat., 124°03.18′ W. long.

(ff) This area of EFH is bounded by straight lines connecting all of the following points in the order stated::

(1) 35°19.23′ N. lat., 122°39.91′ W. long.;

(2) 35°08.76′ N. lat., 122°23.83′ W. long.;

(3) 35°06.22′ N. lat., 122°28.09′ W. long.;

(4) 35°15.81′ N. lat., 122°45.90′ W. long.;

and connecting back to 35°19.23′ N. lat., 122°39.91′ W. long.

(gg) This area of EFH is bounded by straight lines connecting all of the following points in the order stated:

(1) 35°25.81′ N. lat., 123°24.05′ W. long.;

(2) 35°21.76′ N. lat., 123°23.47′ W. long.;

(3) 35°21.05′ N. lat., 123°27.22′ W. long.;

(4) 35°24.89′ N. lat., 123°28.49′ W. long.;

and connecting back to 35°25.81′ N. lat., 123°24.05′ W. long.

(hh) This area of EFH is bounded by straight lines connecting all of the following points in the order stated:

(1) 35°27.15′ N. lat., 125°03.69′ W. long.;

(2) 35°28.68′ N. lat., 125°04.86′ W. long.;

(3) 35°30.23′ N. lat., 125°02.59′ W. long.;

(4) 35°28.85′ N. lat., 125°01.48′ W. long.;

and connecting back to 35°27.15′ N. lat., 125°03.69′ W. long.

(ii) This area of EFH is bounded by straight lines connecting all of the following points in the order stated:

(1) 35°31.14′ N. lat., 123°52.80′ W. long.;

(2) 35°31.38′ N. lat., 123°54.83′ W. long.;

(3) 35°32.98′ N. lat., 123°53.80′ W. long.;

and connecting back to 35°31.14′ N. lat., 123°52.80′ W. long.

(jj) This area of EFH is bounded by straight lines connecting all of the following points in the order stated:

(1) 35°24.08′ N. lat., 123°40.83′ W. long.;

(2) 35°24.76′ N. lat., 123°45.92′ W. long.;

(3) 35°33.04′ N. lat., 123°44.92′ W. long.;

(4) 35°32.24′ N. lat., 123°39.16′ W. long.;

and connecting back to 35°24.08′ N. lat., 123°40.83′ W. long.

(kk) This area of EFH is bounded by straight lines connecting all of the following points in the order stated:

(1) 36°08.72′ N. lat., 124°22.59′ W. long.;

(2) 36°07.91′ N. lat., 124°22.48′ W. long.;

(3) 36°07.90′ N. lat., 124°24.27′ W. long.;

(4) 36°08.75′ N. lat., 124°24.10′ W. long.;

and connecting back to 36°08.72′ N. lat., 124°22.59′ W. long.

(ll) This area of EFH is bounded by straight lines connecting all of the following points in the order stated:

(1) 36°07.33′ N. lat., 124°18.83′ W. long.;

(2) 36°08.21′ N. lat., 124°19.86′ W. long.;

(3) 36°09.64′ N. lat., 124°18.70′ W. long.;

(4) 36°08.62′ N. lat., 124°17.22′ W. long.;

and connecting back to 36°07.33′ N. lat., 124°18.83′ W. long.

(mm) This area of EFH is bounded by straight lines connecting all of the following points in the order stated::

(1) 36°47.33′ N. lat., 124°10.21′ W. long.;

(2) 36°50.85′ N. lat., 124°11.63′ W. long.;

(3) 36°52.22′ N. lat., 124°08.65′ W. long.;

(4) 36°49.93′ N. lat., 124°06.40′ W. long.;

and connecting back to 36°47.33′ N. lat., 124°10.21′ W. long.

(nn) This area of EFH is bounded by straight lines connecting all of the following points in the order stated:

(1) 36°56.03′ N. lat., 123°40.86′ W. long.;

(2) 36°56.37′ N. lat., 123°40.86′ W. long.;

(3) 36°56.42′ N. lat., 123°40.49′ W. long.;

(4) 36°56.18′ N. lat., 123°40.37′ W. long.;

and connecting back to 36°56.03′ N. lat., 123°40.86′ W. long.

(oo) This area of EFH is bounded by straight lines connecting all of the following points in the order stated:

(1) 36°32.58′ N. lat., 125°01.80′ W. long.;

(2) 36°50.38′ N. lat., 125°44.21′ W. long.;

(3) 37°00.91′ N. lat., 125°40.06′ W. long.;

(4) 36°41.26′ N. lat., 124°55.90′ W. long.;

and connecting back to 36°32.58′ N. lat., 125°01.80′ W. long.

(pp) This area of EFH is bounded by straight lines connecting all of the following points in the order stated:

(1) 37°45.73′ N. lat., 124°11.40′ W. long.;

(2) 37°47.91′ N. lat., 124°14.01′ W. long.;

(3) 37°50.99′ N. lat., 124°09.09′ W. long.;

(4) 37°47.97′ N. lat., 124°07.00′ W. long.;

and connecting back to 37°45.73′ N. lat., 124°11.40′ W. long.

(qq) This area of EFH is bounded by straight lines connecting all of the following points in the order stated:

(1) 38°08.53′ N. lat., 124°29.98′ W. long.;

(2) 38°10.65′ N. lat., 124°32.69′ W. long.;

(3) 38°12.81′ N. lat., 124°29.45′ W. long.;

(4) 38°10.86′ N. lat., 124°26.66′ W. long.;

and connecting back to 38°08.53′ N. lat., 124°29.98′ W. long.

7. Section 660.396 is added to read as follows:

§ 660.396 EFH Conservation Areas.

EFH Conservation Areas are designated to minimize to the extent practicable adverse effects to EFH caused by fishing(16 U.S.C. 1853 section 303(a)(7)). The boundaries of areas designated as Groundfish EFH Conservation Areas are defined by straight lines connecting a series of latitude and longitude coordinates. This § 660.396 provides coordinates outlining the boundaries of the coastwide EFH Conservation Area. Section 660.397 provides coordinates outlining the boundaries of EFH Conservation Areas that occur wholly off the coast of Washington. Section 660.398 provides coordinates outlining the boundaries of EFH Conservation Areas that occur wholly off the coast of Oregon. Section 660.399 provides coordinates outlining the boundaries of EFH Conservation Areas that occur wholly off the coast of California. Fishing activity that is prohibited or permitted within the EEZ in a particular area designated as a groundfish EFH Conservation Area is detailed at § 660.306 and § 660.385.

(a) Seaward of the 700-fm (1280-m) contour. This area includes all waters designated as EFH within the West Coast EEZ west of a line approximating the 700-fm (1280-m) depth contour which is defined by straight lines connecting all of the following points in the order stated:

(1) 48°06.97′ N. lat., 126°02.96′ W. long.;

(2) 48°00.44′ N. lat., 125°54.96′ W. long.;

(3) 47°55.96′ N. lat., 125°46.51′ W. long.;

(4) 47°47.21′ N. lat., 125°43.73′ W. long.;

(5) 47°42.89′ N. lat., 125°49.58′ W. long.;

(6) 47°38.18′ N. lat., 125°37.26′ W. long.;

(7) 47°32.36′ N. lat., 125°32.87′ W. long.;

(8) 47°29.77′ N. lat., 125°26.27′ W. long.;

(9) 47°28.54′ N. lat., 125°18.82′ W. long.;

(10) 47°19.25′ N. lat., 125°17.18′ W. long.;

(11) 47°08.82′ N. lat., 125°10.01′ W. long.;

(12) 47°04.69′ N. lat., 125°03.77′ W. long.;

(13) 46°48.38′ N. lat., 125°18.43′ W. long.;

(14) 46°41.92′ N. lat., 125°17.29′ W. long.;

(15) 46°27.49′ N. lat., 124°54.36′ W. long.;

(16) 46°14.13′ N. lat., 125°02.72′ W. long.;

(17) 46°09.53′ N. lat., 125°04.75′ W. long.;

(18) 45°46.64′ N. lat., 124°54.44′ W. long.;

(19) 45°40.86′ N. lat., 124°55.62′ W. long.;

(20) 45°36.50′ N. lat., 124°51.91′ W. long.;

(21) 44°55.69′ N. lat., 125°08.35′ W. long.;

(22) 44°49.93′ N. lat., 125°01.51′ W. long.;

(23) 44°46.93′ N. lat., 125°02.83′ W. long.;

(24) 44°41.96′ N. lat., 125°10.64′ W. long.;

(25) 44°28.31′ N. lat., 125°11.42′ W. long.;

(26) 43°58.37′ N. lat., 125°02.93′ W. long.;

(27) 43°52.74′ N. lat., 125°05.58′ W. long.;

(28) 43°44.18′ N. lat., 124°57.17′ W. long.;

(29) 43°37.58′ N. lat., 125°07.70′ W. long.;

(30) 43°15.95′ N. lat., 125°07.84′ W. long.;

(31) 42°47.50′ N. lat., 124°59.96′ W. long.;

(32) 42°39.02′ N. lat., 125°01.07′ W. long.;

(33) 42°34.80′ N. lat., 125°02.89′ W. long.;

(34) 42°34.11′ N. lat., 124°55.62′ W. long.;

(35) 42°23.81′ N. lat., 124°52.85′ W. long.;

(36) 42°16.80′ N. lat., 125°00.20′ W. long.;

(37) 42°06.60′ N. lat., 124°59.14′ W. long.;

(38) 41°59.28′ N. lat., 125°06.23′ W. long.;

(39) 41°31.10′ N. lat., 125°01.30′ W. long.;

(40) 41°14.52′ N. lat., 124°52.67′ W. long.;

(41) 40°40.65′ N. lat., 124°45.69′ W. long.;

(42) 40°35.05′ N. lat., 124°45.65′ W. long.;

(43) 40°23.81′ N. lat., 124°41.16′ W. long.;

(44) 40°20.54′ N. lat., 124°36.36′ W. long.;

(45) 40°20.84′ N. lat., 124°57.23′ W. long.;

(46) 40°18.54′ N. lat., 125°09.47′ W. long.;

(47) 40°14.54′ N. lat., 125°09.83′ W. long.;

(48) 40°11.79′ N. lat., 125°07.39′ W. long.;

(49) 40°06.72′ N. lat., 125°04.28′ W. long.;

(50) 39°50.77′ N. lat., 124°37.54′ W. long.;

(51) 39°56.67′ N. lat., 124°26.58′ W. long.;

(52) 39°44.25′ N. lat., 124°12.60′ W. long.;

(53) 39°35.82′ N. lat., 124°12.02′ W. long.;

(54) 39°24.54′ N. lat., 124°16.01′ W. long.;

(55) 39°01.97′ N. lat., 124°11.20′ W. long.;

(56) 38°33.48′ N. lat., 123°48.21′ W. long.;

(57) 38°14.49′ N. lat., 123°38.89′ W. long.;

(58) 37°56.97′ N. lat., 123°31.65′ W. long.;

(59) 37°49.09′ N. lat., 123°27.98′ W. long.;

(60) 37°40.29′ N. lat., 123°12.83′ W. long.;

(61) 37°22.54′ N. lat., 123°14.65′ W. long.;

(62) 37°05.98′ N. lat., 123°05.31′ W. long.;

(63) 36°59.02′ N. lat., 122°50.92′ W. long.;

(64) 36°50.32′ N. lat., 122°17.44′ W. long.;

(65) 36°44.54′ N. lat., 122°19.42′ W. long.;

(66) 36°40.76′ N. lat., 122°17.28′ W. long.;

(67) 36°39.88′ N. lat., 122°09.69′ W. long.;

(68) 36°44.52′ N. lat., 122°07.13′ W. long.;

(69) 36°42.26′ N. lat., 122°03.54′ W. long.;

(70) 36°30.02′ N. lat., 122°09.85′ W. long.;

(71) 36°22.33′ N. lat., 122°22.99′ W. long.;

(72) 36°14.36′ N. lat., 122°21.19′ W. long.;

(73) 36°09.50′ N. lat., 122°14.25′ W. long.;

(74) 35°51.50′ N. lat., 121°55.92′ W. long.;

(75) 35°49.53′ N. lat., 122°13.00′ W. long.;

(76) 34°58.30′ N. lat., 121°36.76′ W. long.;

(77) 34°53.13′ N. lat., 121°37.49′ W. long.;

(78) 34°46.54′ N. lat., 121°46.25′ W. long.;

(79) 34°37.81′ N. lat., 121°35.72′ W. long.;

(80) 34°37.72′ N. lat., 121°27.35′ W. long.;

(81) 34°26.77′ N. lat., 121°07.58′ W. long.;

(82) 34°18.54′ N. lat., 121°05.01′ W. long.;

(83) 34°02.68′ N. lat., 120°54.30′ W. long.;

(84) 33°48.11′ N. lat., 120°25.46′ W. long.;

(85) 33°42.54′ N. lat., 120°38.24′ W. long.;

(86) 33°46.26′ N. lat., 120°43.64′ W. long.;

(87) 33°40.71′ N. lat., 120°51.29′ W. long.;

(88) 33°33.14′ N. lat., 120°40.25′ W. long.;

(89) 32°51.57′ N. lat., 120°23.35′ W. long.;

(90) 32°38.54′ N. lat., 120°09.54′ W. long.;

(91) 32°35.76′ N. lat., 119°53.43′ W. long.;

(92) 32°29.54′ N. lat., 119°46.00′ W. long.;

(93) 32°25.99′ N. lat., 119°41.16′ W. long.;

(94) 32°30.46′ N. lat., 119°33.15′ W. long.;

(95) 32°23.47′ N. lat., 119°25.71′ W. long.;

(96) 32°19.19′ N. lat., 119°13.96′ W. long.;

(97) 32°13.18′ N. lat., 119°04.44′ W. long.;

(98) 32°13.40′ N. lat., 118°51.87′ W. long.;

(99) 32°19.62′ N. lat., 118°47.80′ W. long.;

(100) 32°27.26′ N. lat., 118°50.29′ W. long.;

(101) 32°28.42′ N. lat., 118°53.15′ W. long.;

(102) 32°31.30′ N. lat., 118°55.09′ W. long.;

(103) 32°33.04′ N. lat., 118°53.57′ W. long.;

(104) 32°19.07′ N. lat., 118°27.54′ W. long.;

(105) 32°18.57′ N. lat., 118°18.97′ W. long.;

(106) 32°09.01′ N. lat., 118°13.96′ W. long.;

(107) 32°06.57′ N. lat., 118°18.78′ W. long.;

(108) 32°01.32′ N. lat., 118°18.21′ W. long.; and

(109) 31°57.82′ N. lat., 118°10.34′ W. long.

(b) [Reserved.]

8. Section 660.397 is added to read as follows:

§ 660.397 EFH Conservation Areas off the Coast of Washington.

Boundary line coordinates for EFH Conservation Areas off Washington are provided in this § 660.397. Fishing activity that is prohibited or permitted within the EEZ in a particular area designated as a groundfish EFH Conservation Area is detailed at § 660.306 and § 660.385.

(a) Olympic 2. The boundary of the Olympic 2 EFH Conservation Area is defined by straight lines connecting all of the following points in the order stated:

(1) 48°21.46′ N. lat., 124°51.61′ W. long.;

(2) 48°17.00′ N. lat., 124°57.18′ W. long.;

(3) 48°06.13′ N. lat., 125°00.68′ W. long.;

(4) 48°06.66′ N. lat., 125°06.55′ W. long.;

(5) 48°08.44′ N. lat., 125°14.61′ W. long.;

(6) 48°22.57′ N. lat., 125°09.82′ W. long.;

(7) 48°21.42′ N. lat., 125°03.55′ W. long.;

(8) 48°22.99′ N. lat., 124°59.29′ W. long.;

(9) 48°23.89′ N. lat., 124°54.37′ W. long.;

and connecting back to 48°21.46′ N. lat., 124°51.61′ W. long.

(b) Biogenic 1. The boundary of the Biogenic 1 EFH Conservation Area is defined by straight lines connecting all of the following points in the order stated:

(1) 47°29.97′ N. lat., 125°20.14′ W. long.;

(2) 47°30.01′ N. lat., 125°30.06′ W. long.;

(3) 47°40.09′ N. lat., 125°50.18′ W. long.;

(4) 47°47.27′ N. lat., 125°50.06′ W. long.;

(5) 47°47.00′ N. lat., 125°24.28′ W. long.;

(6) 47°39.53′ N. lat., 125°10.49′ W. long.;

(7) 47°30.31′ N. lat., 125°08.81′ W. long.;

and connecting back to 47°29.97′ N. lat., 125°20.14′ W. long.

(c) Biogenic 2. The boundary of the Biogenic 2 EFH Conservation Area is defined by straight lines connecting all of the following points in the order stated:

(1) 47°08.77′ N. lat., 125°00.91′ W. long.;

(2) 47°08.82′ N. lat., 125°10.01′ W. long.;

(3) 47°20.01′ N. lat., 125°10.00′ W. long.;

(4) 47°20.00′ N. lat., 125°01.25′ W. long.;

and connecting back to 47°08.77′ N. lat., 125°00.91′ W. long.

(d) Grays Canyon. The boundary of the Grays Canyon EFH Conservation Area is defined by straight lines connecting all of the following points in the order stated:

(1) 46°51.55′ N. lat., 125°00.00′ W. long.;

(2) 46°56.79′ N. lat., 125°00.00′ W. long.;

(3) 46°58.01′ N. lat., 124°55.09′ W. long.;

(4) 46°55.07′ N. lat., 124°54.14′ W. long.;

(5) 46°59.60′ N. lat., 124°49.79′ W. long.;

(6) 46°58.72′ N. lat., 124°48.78′ W. long.;

(7) 46°54.45′ N. lat., 124°48.36′ W. long.;

(8) 46°53.99′ N. lat., 124°49.95′ W. long.;

(9) 46°54.38′ N. lat., 124°52.73′ W. long.;

(10) 46°52.38′ N. lat., 124°52.02′ W. long.;

(11) 46°48.93′ N. lat., 124°49.17′ W. long.;

and connecting back to 46°51.55′ N. lat., 125°00.00′ W. long.

(e) Biogenic 3. The boundary of the Biogenic 3 EFH Conservation Area is defined by straight lines connecting all of the following points in the order stated:

(1) 46°48.16′ N. lat., 125°10.75′ W. long.;

(2) 46°40.00′ N. lat., 125°10.00′ W. long.;

(3) 46°40.00′ N. lat., 125°20.01′ W. long.;

(4) 46°50.00′ N. lat., 125°20.00′ W. long.;

and connecting back to 46°48.16′ N. lat., 125°10.75′ W. long.

9. Section 660.398 is added to read as follows:

§ 660.398 EFH Conservation Areas off the Coast of Oregon.

Boundary line coordinates for EFH Conservation Areas off Oregon are provided in this § 660.398. Fishing activity that is prohibited or permitted within the EEZ in a particular area designated as a groundfish EFH Conservation Area is detailed at § 660.306 and § 660.385.

(a) Thompson Seamount. The boundary of the Thompson Seamount EFH Conservation Area is defined by straight lines connecting all of the following points in the order stated:

(1) 46°06.93′ N. lat., 128°39.77′ W. long.;

(2) 46°06.76′ N. lat., 128°39.60′ W. long.;

(3) 46°07.80′ N. lat., 128°39.43′ W. long.;

(4) 46°08.50′ N. lat., 128°34.39′ W. long.;

(5) 46°06.76′ N. lat., 128°29.36′ W. long.;

(6) 46°03.64′ N. lat., 128°28.67′ W. long.;

(7) 45°59.64′ N. lat., 128°31.62′ W. long.;

(8) 45°56.87′ N. lat., 128°33.18′ W. long.;

(9) 45°53.92′ N. lat., 128°39.25′ W. long.;

(10) 45°54.26′ N. lat., 128°43.42′ W. long.;

(11) 45°56.87′ N. lat., 128°45.85′ W. long.;

(12) 46°00.86′ N. lat., 128°46.02′ W. long.;

(13) 46°03.29′ N. lat., 128°44.81′ W. long.;

(14) 46°06.24′ N. lat., 128°42.90′ W. long.;

and connecting back to 46°06.93′ N. lat., 128°39.77′ W. long.

(b) Astoria Canyon. The boundary of the Astoria Canyon EFH Conservation Area is defined by straight lines connecting all of the following points in the order stated:

(1) 46°06.48′ N. lat., 125°05.46′ W. long.;

(2) 46°03.00′ N. lat., 124°57.36′ W. long.;

(3) 46°02.28′ N. lat., 124°57.66′ W. long.;

(4) 46°01.92′ N. lat., 125°02.46′ W. long.;

(5) 45°48.72′ N. lat., 124°56.58′ W. long.;

(6) 45°47.70′ N. lat., 124°52.20′ W. long.;

(7) 45°40.86′ N. lat., 124°55.62′ W. long.;

(8) 45°29.82′ N. lat., 124°54.30′ W. long.;

(9) 45°25.98′ N. lat., 124°56.82′ W. long.;

(10) 45°26.04′ N. lat., 125°10.50′ W. long.;

(11) 45°33.12′ N. lat., 125°16.26′ W. long.;

(12) 45°40.32′ N. lat., 125°17.16′ W. long.;

(13) 46°03.00′ N. lat., 125°14.94′ W. long.;

and connecting back to 46°06.48′ N. lat., 125°05.46′ W. long.

(c) Nehalem Bank/Shale Pile. The boundary of the Nehalem Bank/Shale Pile EFH Conservation Area is defined by straight lines connecting all of the following points in the order stated:

(1) 46°00.60′ N. lat., 124°33.94′ W. long.;

(2) 45°55.63′ N. lat., 124°30.52′ W. long.;

(3) 45°47.95′ N. lat., 124°31.70′ W. long.;

(4) 45°52.75′ N. lat., 124°39.20′ W. long.;

(5) 45°58.02′ N. lat., 124°38.99′ W. long.;

(6) 46°00.83′ N. lat., 124°36.78′ W. long.;

and connecting back to 46°00.60′ N. lat., 124°33.94′ W. long.

(d) Siletz Deepwater. The boundary of the Siletz Deepwater EFH Conservation Area is defined by straight lines connecting all of the following points in the order stated:

(1) 44°42.72′ N. lat., 125°18.49′ W. long.;

(2) 44°56.26′ N. lat., 125°12.61′ W. long.;

(3) 44°56.34′ N. lat., 125°09.13′ W. long.;

(4) 44°49.93′ N. lat., 125°01.51′ W. long.;

(5) 44°46.93′ N. lat., 125°02.83′ W. long.;

(6) 44°41.96′ N. lat., 125°10.64′ W. long.;

(7) 44°33.36′ N. lat., 125°08.82′ W. long.;

(8) 44°33.38′ N. lat., 125°17.08′ W. long.;

and connecting back to 44°42.72′ N. lat., 125°18.49′ W. long.

(e) Daisy Bank/Nelson Island. The boundary of the Daisy Bank/Nelson Island EFH Conservation Area is defined by straight lines connecting all of the following points in the order stated:

(1) 44°39.73′ N. lat., 124°41.43′ W. long.;

(2) 44°39.60′ N. lat., 124°41.29′ W. long.;

(3) 44°37.17′ N. lat., 124°38.60′ W. long.;

(4) 44°35.55′ N. lat., 124°39.27′ W. long.;

(5) 44°37.57′ N. lat., 124°41.70′ W. long.;

(6) 44°36.90′ N. lat., 124°42.91′ W. long.;

(7) 44°38.25′ N. lat., 124°46.28′ W. long.;

(8) 44°38.52′ N. lat., 124°49.11′ W. long.;

(9) 44°40.27′ N. lat., 124°49.11′ W. long.;

(10) 44°41.35′ N. lat., 124°48.03′ W. long.;

and connecting back to 44°39.73′ N. lat., 124°41.43′ W. long.

(f) Newport Rockpile/Stonewall Bank. The boundary of the Newport Rockpile/Stonewall Bank EFH Conservation Area is defined by straight lines connecting all of the following points in the order stated:

(1) 44°27.61′ N. lat., 124°26.93′ W. long.;

(2) 44°34.64′ N. lat., 124°26.82′ W. long.;

(3) 44°38.15′ N. lat., 124°25.15′ W. long.;

(4) 44°37.78′ N. lat., 124°23.05′ W. long.;

(5) 44°28.82′ N. lat., 124°18.80′ W. long.;

(6) 44°25.16′ N. lat., 124°20.69′ W. long.;

and connecting back to 44°27.61′ N. lat., 124°26.93′ W. long.

(g) Heceta Bank. The boundary of the Heceta Bank EFH Conservation Area is defined by straight lines connecting all of the following points in the order stated:

(1) 43°57.68′ N. lat., 124°55.48′ W. long.;

(2) 44°00.14′ N. lat., 124°55.25′ W. long.;

(3) 44°02.88′ N. lat., 124°53.96′ W. long.;

(4) 44°13.47′ N. lat., 124°54.08′ W. long.;

(5) 44°20.30′ N. lat., 124°38.72′ W. long.;

(6) 44°13.52′ N. lat., 124°40.45′ W. long.;

(7) 44°09.00′ N. lat., 124°45.30′ W. long.;

(8) 44°03.46′ N. lat., 124°45.71′ W. long.;

(9) 44°03.26′ N. lat., 124°49.42′ W. long.;

(10) 43°58.61′ N. lat., 124°49.87′ W. long.;

and connecting back to 43°57.68′ N. lat., 124°55.48′ W. long.

(h) Deepwater off Coos Bay. The boundary of the Deepwater off Coos Bay EFH Conservation Area is defined by straight lines connecting all of the following points in the order stated:

(1) 43°29.32′ N. lat., 125°20.11′ W. long.;

(2) 43°38.96′ N. lat., 125°18.75′ W. long.;

(3) 43°37.88′ N. lat., 125°08.26′ W. long.;

(4) 43°36.58′ N. lat., 125°06.56′ W. long.;

(5) 43°33.04′ N. lat., 125°08.41′ W. long.;

(6) 43°27.74′ N. lat., 125°07.25′ W. long.;

(7) 43°15.95′ N. lat., 125°07.84′ W. long.;

(8) 43°15.38′ N. lat., 125°10.47′ W. long.;

(9) 43°25.73′ N. lat., 125°19.36′ W. long.;

and connecting back to 43°29.32′ N. lat., 125°20.11′ W. long.

(i) Bandon High Spot. The boundary of the Bandon High Spot EFH Conservation Area is defined by straight lines connecting all of the following points in the order stated:

(1) 43°08.83′ N. lat., 124°50.93′ W. long.;

(2) 43°08.77′ N. lat., 124°49.82′ W. long.;

(3) 43°05.16′ N. lat., 124°49.05′ W. long.;

(4) 43°02.94′ N. lat., 124°46.87′ W. long.;

(5) 42°57.18′ N. lat., 124°46.01′ W. long.;

(6) 42°56.10′ N. lat., 124°47.48′ W. long.;

(7) 42°56.66′ N. lat., 124°48.79′ W. long.;

(8) 42°52.89′ N. lat., 124°52.59′ W. long.;

(9) 42°53.82′ N. lat., 124°55.76′ W. long.;

(10) 42°57.56′ N. lat., 124°54.10′ W. long.;

(11) 42°58.00′ N. lat., 124°52.99′ W. long.;

(12) 43°00.39′ N. lat., 124°51.77′ W. long.;

(13) 43°02.64′ N. lat., 124°52.01′ W. long.;

(14) 43°04.60′ N. lat., 124°53.01′ W. long.;

(15) 43°05.89′ N. lat., 124°51.60′ W. long.;

and connecting back to 43°08.83′ N. lat., 124°50.93′ W. long.

(j) President Jackson Seamount. The boundary of the President Jackson Seamount EFH Conservation Area is defined by straight lines connecting all of the following points in the order stated:

(1) 42°21.41′ N. lat., 127°42.91′ W. long.;

(2) 42°21.96′ N. lat., 127°43.73′ W. long.;

(3) 42°23.78′ N. lat., 127°46.09′ W. long.;

(4) 42°26.05′ N. lat., 127°48.64′ W. long.;

(5) 42°28.60′ N. lat., 127°52.10′ W. long.;

(6) 42°31.06′ N. lat., 127°55.02′ W. long.;

(7) 42°34.61′ N. lat., 127°58.84′ W. long.;

(8) 42°37.34′ N. lat., 128°01.48′ W. long.;

(9) 42°39.62′ N. lat., 128°05.12′ W. long.;

(10) 42°41.81′ N. lat., 128°08.13′ W. long.;

(11) 42°43.44′ N. lat., 128°10.04′ W. long.;

(12) 42°44.99′ N. lat., 128°12.04′ W. long.;

(13) 42°48.27′ N. lat., 128°15.05′ W. long.;

(14) 42°51.28′ N. lat., 128°15.05′ W. long.;

(15) 42°53.64′ N. lat., 128°12.23′ W. long.;

(16) 42°52.64′ N. lat., 128°08.49′ W. long.;

(17) 42°51.64′ N. lat., 128°06.94′ W. long.;

(18) 42°50.27′ N. lat., 128°05.76′ W. long.;

(19) 42°48.18′ N. lat., 128°03.76′ W. long.;

(20) 42°45.45′ N. lat., 128°01.94′ W. long.;

(21) 42°42.17′ N. lat., 127°57.57′ W. long.;

(22) 42°41.17′ N. lat., 127°53.92′ W. long.;

(23) 42°38.80′ N. lat., 127°49.92′ W. long.;

(24) 42°36.43′ N. lat., 127°44.82′ W. long.;

(25) 42°33.52′ N. lat., 127°41.36′ W. long.;

(26) 42°31.24′ N. lat., 127°39.63′ W. long.;

(27) 42°28.33′ N. lat., 127°36.53′ W. long.;

(28) 42°23.96′ N. lat., 127°35.89′ W. long.;

(29) 42°21.96′ N. lat., 127°37.72′ W. long.;

(30) 42°21.05′ N. lat., 127°40.81′ W. long.;

and connecting back to 42°21.41′ N. lat., 127°42.91′ W. long.

(k) Rogue Canyon. The boundary of the Rogue Canyon EFH Conservation Area is defined by straight lines connecting all of the following points in the order stated:

(1) 42°41.33′ N. lat., 125°16.61′ W. long.;

(2) 42°41.55′ N. lat., 125°03.05′ W. long.;

(3) 42°35.29′ N. lat., 125°02.21′ W. long.;

(4) 42°34.11′ N. lat., 124°55.62′ W. long.;

(5) 42°30.61′ N. lat., 124°54.97′ W. long.;

(6) 42°23.81′ N. lat., 124°52.85′ W. long.;

(7) 42°17.94′ N. lat., 125°10.17′ W. long.;

and connecting back to 42°41.33′ N. lat., 125°16.61′ W. long.

10. Section 660.399 is added to read as follows:

§ 660.399 EFH Conservation Areas off the Coast of California.

Boundary line coordinates for EFH Conservation Areas off California are provided in this § 660.399. Fishing activity that is prohibited or permitted within the EEZ in a particular area designated as a groundfish EFH Conservation Area is detailed at § 660.306 and § 660.385.

(a) Eel River Canyon. The boundary of the Eel River Canyon EFH Conservation Area is defined by straight lines connecting all of the following points in the order stated:

(1) 40°38.27′ N. lat., 124°27.16′ W. long.;

(2) 40°35.60′ N. lat., 124°28.75′ W. long.;

(3) 40°37.52′ N. lat., 124°33.41′ W. long.;

(4) 40°37.47′ N. lat., 124°40.46′ W. long.;

(5) 40°35.47′ N. lat., 124°42.97′ W. long.;

(6) 40°32.78′ N. lat., 124°44.79′ W. long.;

(7) 40°24.32′ N. lat., 124°39.97′ W. long.;

(8) 40°23.26′ N. lat., 124°42.45′ W. long.;

(9) 40°27.34′ N. lat., 124°51.21′ W. long.;

(10) 40°32.68′ N. lat., 125°05.63′ W. long.;

(11) 40°49.12′ N. lat., 124°47.41′ W. long.;

(12) 40°44.32′ N. lat., 124°46.48′ W. long.;

(13) 40°40.75′ N. lat., 124°47.51′ W. long.;

(14) 40°40.65′ N. lat., 124°46.02′ W. long.;

(15) 40°39.69′ N. lat., 124°33.36′ W. long.;

and connecting back to 40°38.27′ N. lat., 124°27.16′ W. long.

(b) Blunts Reef. The boundary of the Blunts Reef EFH Conservation Area is defined by straight lines connecting all of the following points in the order stated:

(1) 40°27.53′ N. lat., 124°26.84′ W. long.;

(2) 40°24.66′ N. lat., 124°29.49′ W. long.;

(3) 40°28.50′ N. lat., 124°32.42′ W. long.;

(4) 40°30.46′ N. lat., 124°32.23′ W. long.;

(5) 40°30.21′ N. lat., 124°26.85′ W. long.;

and connecting back to 40°27.53′ N. lat., 124°26.84′ W. long.

(c) Mendocino Ridge. The boundary of the Mendocino Ridge EFH Conservation Area is defined by straight lines connecting all of the following points in the order stated:

(1) 40°25.23′ N. lat., 124°24.06′ W. long.;

(2) 40°12.50′ N. lat., 124°22.59′ W. long.;

(3) 40°14.40′ N. lat., 124°35.82′ W. long.;

(4) 40°16.16′ N. lat., 124°39.01′ W. long.;

(5) 40°17.47′ N. lat., 124°40.77′ W. long.;

(6) 40°19.26′ N. lat., 124°47.97′ W. long.;

(7) 40°19.98′ N. lat., 124°52.73′ W. long.;

(8) 40°20.06′ N. lat., 125°02.18′ W. long.;

(9) 40°11.79′ N. lat., 125°07.39′ W. long.;

(10) 40°12.55′ N. lat., 125°11.56′ W. long.;

(11) 40°12.81′ N. lat., 125°12.98′ W. long.;

(12) 40°20.72′ N. lat., 125°57.31′ W. long.;

(13) 40°23.96′ N. lat., 125°56.83′ W. long.;

(14) 40°24.04′ N. lat., 125°56.82′ W. long.;

(15) 40°25.68′ N. lat., 125°09.77′ W. long.;

(16) 40°21.03′ N. lat., 124°33.96′ W. long.;

(17) 40°25.72′ N. lat., 124°24.15′ W. long.;

and connecting back to 40°25.23′ N. lat., 124°24.06′ W. long.

(d) Delgada Canyon. The boundary of the Delgada Canyon EFH Conservation Area is defined by straight lines connecting all of the following points in the order stated:

(1) 40°07.13′ N. lat., 124°09.09′ W. long.;

(2) 40°06.58′ N. lat., 124°07.39′ W. long.;

(3) 40°01.18′ N. lat., 124°08.84′ W. long.;

(4) 40°02.48′ N. lat., 124°12.93′ W. long.;

(5) 40°05.71′ N. lat., 124°09.42′ W. long.;

(6) 40°07.18′ N. lat., 124°09.61′ W. long.;

and connecting back to 40°07.13′ N. lat., 124°09.09′ W. long.

(e) Tolo Bank. The boundary of the Tolo Bank EFH Conservation Area is defined by straight lines connecting all of the following points in the order stated:

(1) 39°58.75′ N. lat., 124°04.58′ W. long.;

(2) 39°56.05′ N. lat., 124°01.45′ W. long.;

(3) 39°53.99′ N. lat., 124°00.17′ W. long.;

(4) 39°52.28′ N. lat., 124°03.12′ W. long.;

(5) 39°57.90′ N. lat., 124°07.07′ W. long.;

and connecting back to 39°58.75′ N. lat., 124°04.58′ W. long.

(f) Point Arena North. The boundary of the Point Arena North EFH Conservation Area is defined by straight lines connecting all of the following points in the order stated:

(1) 39°03.32′ N. lat., 123°51.15′ W. long.;

(2) 38°56.54′ N. lat., 123°49.79′ W. long.;

(3) 38°54.12′ N. lat., 123°52.69′ W. long.;

(4) 38°59.64′ N. lat., 123°55.02′ W. long.;

(5) 39°02.83′ N. lat., 123°55.21′ W. long.;

and connecting back to 39°03.32′ N. lat., 123°51.15′ W. long.

(g) Point Arena South Biogenic Area. The boundary of the Point Arena South Biogenic Area EFH Conservation Area is defined by straight lines connecting all of the following points in the order stated:

(1) 38°35.49′ N. lat., 123°34.79′ W. long.;

(2) 38°32.86′ N. lat., 123°41.09′ W. long.;

(3) 38°34.92′ N. lat., 123°42.53′ W. long.;

(4) 38°35.74′ N. lat., 123°43.82′ W. long.;

(5) 38°47.28′ N. lat., 123°51.19′ W. long.;

(6) 38°49.50′ N. lat., 123°45.83′ W. long.;

(7) 38°41.22′ N. lat., 123°41.76′ W. long.;

and connecting back to 38°35.49′ N. lat., 123°34.79′ W. long.

(h) Cordell Bank/Biogenic Area. The boundary of the Cordell Bank/Biogenic Area EFH Conservation Area is located offshore of California′s Marin County defined by straight lines connecting all of the following points in the order stated:

(1) 38°04.05′ N. lat., 123°07.28′ W. long.;

(2) 38°02.84′ N. lat., 123°07.36′ W. long.;

(3) 38°01.09′ N. lat., 123°07.06′ W. long.;

(4) 38°01.02′ N. lat., 123°22.08′ W. long.;

(5) 37°54.75′ N. lat., 123°23.64′ W. long.;

(6) 37°46.01′ N. lat., 123°25.62′ W. long.;

(7) 37°46.68′ N. lat., 123°27.05′ W. long.;

(8) 37°47.66′ N. lat., 123°28.18′ W. long.;

(9) 37°50.26′ N. lat., 123°30.94′ W. long.;

(10) 37°54.41′ N. lat., 123°32.69′ W. long.;

(11) 37°56.94′ N. lat., 123°32.87′ W. long.;

(12) 37°57.12′ N. lat., 123°25.04′ W. long.;

(13) 37°59.43′ N. lat., 123°27.29′ W. long.;

(14) 38°00.82′ N. lat., 123°29.61′ W. long.;

(15) 38°02.31′ N. lat., 123°30.88′ W. long.;

(16) 38°03.99′ N. lat., 123°30.75′ W. long.;

(17) 38°04.85′ N. lat., 123°30.36′ W. long.;

(18) 38°04.88′ N. lat., 123°27.85′ W. long.;

(19) 38°04.44′ N. lat., 123°24.44′ W. long.;

(20) 38°03.05′ N. lat., 123°21.33′ W. long.;

(21) 38°05.77′ N. lat., 123°06.83′ W. long.;

and connecting back to 38°04.05′ N. lat., 123°07.28′ W. long.

(i) Cordell Bank (50-fm (91-m) isobath). The boundary of the Cordell Bank (50-fm (91-m) isobath) EFH Conservation Area is located offshore of California′s Marin County defined by straight lines connecting all of the following points in the order stated:

(1) 37°57.62′ N. lat., 123°24.22′ W. long.;

(2) 37°57.70′ N. lat., 123°25.25′ W. long.;

(3) 37°59.47′ N. lat., 123°26.63′ W. long.;

(4) 38°00.24′ N. lat., 123°27.87′ W. long.;

(5) 38°00.98′ N. lat., 123°27.65′ W. long.;

(6) 38°02.81′ N. lat., 123°28.75′ W. long.;

(7) 38°04.26′ N. lat., 123°29.25′ W. long.;

(8) 38°04.55′ N. lat., 123°28.32′ W. long.;

(9) 38°03.87′ N. lat., 123°27.69′ W. long.;

(10) 38°04.27′ N. lat., 123°26.68′ W. long.;

(11) 38°02.67′ N. lat., 123°24.17′ W. long.;

(12) 38°00.87′ N. lat., 123°23.15′ W. long.;

(13) 37°59.32′ N. lat., 123°22.52′ W. long.;

(14) 37°58.24′ N. lat., 123°23.16′ W. long.;

and connecting back to 37°57.62′ N. lat., 123°24.22′ W. long.

(j) Farallon Islands/Fanny Shoal. The boundary of the Farallon Islands/Fanny Shoal EFH Conservation Area is defined by straight lines connecting all of the following points in the order stated:

(1) 37°51.58′ N. lat., 123°14.07′ W. long.;

(2) 37°44.51′ N. lat., 123°01.50′ W. long.;

(3) 37°41.71′ N. lat., 122°58.38′ W. long.;

(4) 37°40.80′ N. lat., 122°58.54′ W. long.;

(5) 37°39.87′ N. lat., 122°59.64′ W. long.;

(6) 37°42.05′ N. lat., 123°03.72′ W. long.;

(7) 37°43.73′ N. lat., 123°04.45′ W. long.;

(8) 37°49.23′ N. lat., 123°16.81′ W. long.;

and connecting back to 37°51.58′ N. lat., 123°14.07′ W. long.

(k) Half Moon Bay. The boundary of the Half Moon Bay EFH Conservation Area is defined by straight lines connecting all of the following points in the order stated:

(1) 37°18.14′ N. lat., 122°31.15′ W. long.;

(2) 37°19.80′ N. lat., 122°34.70′ W. long.;

(3) 37°19.28′ N. lat., 122°38.76′ W. long.;

(4) 37°23.54′ N. lat., 122°40.75′ W. long.;

(5) 37°25.41′ N. lat., 122°33.20′ W. long.;

(6) 37°23.28′ N. lat., 122°30.71′ W. long.;

and connecting back to 37°18.14′ N. lat., 122°31.15′ W. long.

(l) Monterey Bay/Canyon. The boundary of the Monterey Bay/Canyon EFH Conservation Area is defined by straight lines connecting all of the following points in the order stated:

(1) 36°38.21′ N. lat., 121°55.96′ W. long.;

(2) 36°25.31′ N. lat., 121°54.86′ W. long.;

(3) 36°25.25′ N. lat., 121°58.34′ W. long.;

(4) 36°30.86′ N. lat., 122°00.45′ W. long.;

(5) 36°30.02′ N. lat., 122°09.85′ W. long.;

(6) 36°30.23′ N. lat., 122°36.82′ W. long.;

(7) 36°55.08′ N. lat., 122°36.46′ W. long.;

(8) 36°51.41′ N. lat., 122°14.14′ W. long.;

(9) 36°49.37′ N. lat., 122°15.20′ W. long.;

(10) 36°48.31′ N. lat., 122°18.59′ W. long.;

(11) 36°45.55′ N. lat., 122°18.91′ W. long.;

(12) 36°40.76′ N. lat., 122°17.28′ W. long.;

(13) 36°39.88′ N. lat., 122°09.69′ W. long.;

(14) 36°44.94′ N. lat., 122°08.46′ W. long.;

(15) 36°47.37′ N. lat., 122°03.16′ W. long.;

(16) 36°49.60′ N. lat., 122°00.85′ W. long.;

(17) 36°51.53′ N. lat., 121°58.25′ W. long.;

(18) 36°50.78′ N. lat., 121°56.89′ W. long.;

(19) 36°47.39′ N. lat., 121°58.16′ W. long.;

(20) 36°48.34′ N. lat., 121°50.95′ W. long.;

(21) 36°47.23′ N. lat., 121°52.25′ W. long.;

(22) 36°45.60′ N. lat., 121°54.17′ W. long.;

(23) 36°44.76′ N. lat., 121°56.04′ W. long.;

(24) 36°41.68′ N. lat., 121°56.33′ W. long.;

and connecting back to 36°38.21′ N. lat., 121°55.96′ W. long.

(m) Point Sur Deep. The boundary of the Point Sur Deep EFH Conservation Area is defined by straight lines connecting all of the following points in the order stated:

(1) 36°25.25′ N. lat., 122°11.61′ W. long.;

(2) 36°16.05′ N. lat., 122°14.37′ W. long;

(3) 36°16.14′ N. lat., 122°15.94′ W. long.;

(4) 36°17.98′ N. lat., 122°15.93′ W. long.;

(5) 36°17.83′ N. lat., 122°22.56′ W. long.;

(6) 36°22.33′ N. lat., 122°22.99′ W. long.;

(7) 36°26.00′ N. lat., 122°20.81′ W. long.;

and connecting back to 36°25.25′ N. lat., 122°11.61′ W. long.

(n) Big Sur Coast/Port San Luis. The boundary of the Big Sur Coast/Port San Luis EFH Conservation Area is defined by straight lines connecting all of the following points in the order stated:

(1) 36°17.83′ N. lat., 122°22.56′ W. long.;

(2) 36°17.98′ N. lat., 122°15.93′ W. long.;

(3) 36°16.14′ N. lat., 122°15.94′ W. long.;

(4) 36°10.82′ N. lat., 122°15.97′ W. long.;

(5) 36°15.84′ N. lat., 121°56.35′ W. long.;

(6) 36°14.27′ N. lat., 121°53.89′ W. long.;

(7) 36°10.93′ N. lat., 121°48.66′ W. long.;

(8) 36°07.40′ N. lat., 121°43.14′ W. long.;

(9) 36°04.89′ N. lat., 121°51.34′ W. long.;

(10) 35°55.70′ N. lat., 121°50.02′ W. long.;

(11) 35°53.05′ N. lat., 121°56.69′ W. long.;

(12) 35°38.99′ N. lat., 121°49.73′ W. long.;

(13) 35°20.06′ N. lat., 121°27.00′ W. long.;

(14) 35°20.54′ N. lat., 121°35.84′ W. long.;

(15) 35°02.49′ N. lat., 121°35.35′ W. long.;

(16) 35°02.79′ N. lat., 121°26.30′ W. long.;

(17) 34°58.71′ N. lat., 121°24.21′ W. long.;

(18) 34°47.24′ N. lat., 121°22.40′ W. long.;

(19) 34°35.70′ N. lat., 121°45.99′ W. long.;

(20) 35°47.36′ N. lat., 122°30.25′ W. long.;

(21) 35°27.26′ N. lat., 122°45.15′ W. long.;

(22) 35°34.39′ N. lat., 123°00.25′ W. long.;

(23) 36°01.64′ N. lat., 122°40.76′ W. long.;

(24) 36°17.41′ N. lat., 122°41.22′ W. long.;

and connecting back to 36°17.83′ N. lat., 122°22.56′ W. long.

(o) Davidson Seamount. The boundary of the Davidson Seamount EFH Conservation Area is defined by straight lines connecting the following points in the order stated:

(1) 35°54.00′ N. lat., 123°00.00′ W. long.;

(2) 35°54.00′ N. lat., 122°30.00′ W. long.;

(3) 35°30.00′ N. lat., 122°30.00′ W. long.;

(4) 35°30.00′ N. lat., 123°00.00′ W. long.;

and connecting back to 35°54.00′ N. lat., 123°00.00′ W. long.

(p) East San Lucia Bank. The boundary of the East San Lucia Bank EFH Conservation Area is defined by straight lines connecting all of the following points in the order stated:

(1) 34°45.09′ N. lat., 121°05.73′ W. long.;

(2) 34°39.90′ N. lat., 121°10.30′ W. long.;

(3) 34°43.39′ N. lat., 121°14.73′ W. long.;

(4) 34°52.83′ N. lat., 121°14.85′ W. long.;

(5) 34°52.82′ N. lat., 121°05.90′ W. long.;

and connecting back to 34°45.09′ N. lat., 121°05.73′ W. long.

(q) Point Conception. The boundary of the Point Conception EFH Conservation Area is defined by straight lines connecting all of the following points in the order stated:

(1) 34°29.24′ N. lat., 120°36.05′ W. long.;

(2) 34°28.57′ N. lat., 120°34.44′ W. long.;

(3) 34°26.81′ N. lat., 120°33.21′ W. long.;

(4) 34°24.54′ N. lat., 120°32.23′ W. long.;

(5) 34°23.41′ N. lat., 120°30.61′ W. long.;

(6) 33°53.05′ N. lat., 121°05.19′ W. long.;

(7) 34°13.64′ N. lat., 121°20.91′ W. long.;

(8) 34°40.04′ N. lat., 120°54.01′ W. long.;

(9) 34°36.41′ N. lat., 120°43.48′ W. long.;

(10) 34°33.50′ N. lat., 120°43.72′ W. long.;

(11) 34°31.22′ N. lat., 120°42.06′ W. long.;

(12) 34°30.04′ N. lat., 120°40.27′ W. long.;

(13) 34°30.02′ N. lat., 120°40.23′ W. long.;

(14) 34°29.26′ N. lat., 120°37.89′ W. long.;

and connecting back to 34°29.24′ N. lat., 120°36.05′ W. long.

(r) Harris Point. The boundary of the Harris Point EFH Conservation Area is defined by the mean high water line and straight lines connecting all of the following points in the order stated:

(1) 34°03.10′ N. lat., 120°23.30′ W. long.;

(2) 34°12.50′ N. lat., 120°23.30′ W. long.;

(3) 34°12.50′ N. lat., 120°18.40′ W. long.;

(4) 34°01.80′ N. lat., 120°18.40′ W. long.;

(5) 34°02.90′ N. lat., 120°20.20′ W. long.;

(6) 34°03.50′ N. lat., 120°21.30′ W. long.;

(s) Harris Point Exception. An exemption to the Harris Point reserve, where commercial and recreational take of living marine resources is allowed, exists between the mean high water line in Cuyler Harbor and a straight line connecting all of the following points:

(1) 34°02.90′ N. lat., 120°20.20′ W. long.;

(2) 34°03.50′ N. lat., 120°21.30′ W. long.;

(t) Richardson Rock. The boundary of the Richardson Rock EFH Conservation Area is defined by straight lines connecting all of the following points in the order stated:

(1) 34°10.40′ N. lat., 120°28.20′ W. long.;

(2) 34°10.40′ N. lat., 120°36.29′ W. long.;

(3) 34°02.21′ N. lat., 120°36.29′ W. long.;

(4) 34°02.21′ N. lat., 120°28.20′ W. long.;

and connecting back to 34°10.40′ N. lat., 120°28.20′ W. long.

(u) Scorpion. The boundary of the Scorpion EFH Conservation Area is defined by the mean high water line and a straight line connecting all of the following points in the order stated:

(1) 34°02.94′ N. lat., 119°35.50′ W. long.;

(2) 34°09.35′ N. lat., 119°35.50′ W. long.;

(3) 34°09.35′ N. lat., 119°32.80′ W. long.;

(4) 34°02.80′ N. lat., 119°32.80′ W. long.

(v) Painted Cave. The boundary of the Painted Cave EFH Conservation Area is defined by the mean high water line and a straight line connecting all of the following points in the order stated:

(1) 34°04.50′ N. lat., 119°53.00′ W. long.;

(2) 34°05.20′ N. lat., 119°53.00′ W. long.;

(3) 34°05.00′ N. lat., 119°51.00′ W. long.;

(4) 34°04.00′ N. lat., 119°51.00′ W. long.

(w) Anacapa Island. The boundary of the Anacapa Island EFH Conservation Area is defined by the mean high water line and straight lines connecting all of the following points in the order stated:

(1) 34°00.80′ N. lat., 119°26.70′ W. long.;

(2) 34°05.00′ N. lat., 119°26.70′ W. long.;

(3) 34°05.00′ N. lat., 119°21.40′ W. long.;

(4) 34°01.00′ N. lat., 119°21.40′ W. long.

(x) Carrington Point. The boundary of the Carrington Point EFH Conservation Area is defined by the mean high water line and straight lines connecting all of the following points:

(1) 34°01.30′ N. lat., 120°05.20′ W. long.;

(2) 34°04.00′ N. lat., 120°05.20′ W. long.;

(3) 34°04.00′ N. lat., 120°01.00′ W. long.;

(4) 34°00.50′ N. lat., 120°01.00′ W. long.;

(5) 34°00.50′ N. lat., 120°02.80′ W. long.;

(y) Judith Rock. The boundary of the Judith Rock EFH Conservation Area is defined by the mean high water line and a straight line connecting all of the following points in the order stated:

(1) 34°01.80′ N. lat., 120°26.60′ W. long.;

(2) 33°58.50′ N. lat., 120°26.60′ W. long.;

(3) 33°58.50′ N. lat., 120°25.30′ W. long.;

(4) 34°01.50′ N. lat., 120°25.30′ W. long.

(z) Skunk Point. The boundary of the Skunk Point EFH Conservation Area is defined by the mean high water line and straight lines connecting all of the following points in the order stated:

(1) 33°59.00′ N. lat., 119°58.80′ W. long.;

(2) 33°59.00′ N. lat., 119°58.02′ W. long.;

(3) 33°57.10′ N. lat., 119°58.00′ W. long.;

(4) 33°57.10′ N. lat., 119°58.20′ W. long.

(aa) Footprint. The boundary of the Footprint EFH Conservation Area is defined by straight lines connecting all of the following points in the order stated:

(1) 33°59.00′ N. lat., 119°26.00′ W. long.;

(2) 33°59.00′ N. lat., 119°31.00′ W. long.;

(3) 33°54.11′ N. lat., 119°31.00′ W. long.;

(4) 33°54.11′ N. lat., 119°26.00′ W. long.;

and connecting back to 33°59.00′ N. lat., 119°26.00′ W. long.

(bb) Gull Island. The boundary of the Gull Island EFH Conservation Area is defined by the mean high water line and straight lines connecting all of the following points in the order stated:

(1) 33°58.02′ N. lat., 119°51.00′ W. long.;

(2) 33°58.02′ N. lat., 119°53.00′ W. long.;

(3) 33°51.63′ N. lat., 119°53.00′ W. long.;

(4) 33°51.62′ N. lat., 119°48.00′ W. long.;

(5) 33°57.70′ N. lat., 119°48.00′ W. long.

(cc) South Point. The boundary of the South Point EFH Conservation Area is defined by the mean high water line and straight lines connecting all of the following points in the order stated:

(1) 33°55.00′ N. lat., 120°10.00′ W. long.;

(2) 33°50.40′ N. lat., 120°10.00′ W. long.;

(3) 33°50.40′ N. lat., 120°06.50′ W. long.;

(4) 33°53.80′ N. lat., 120°06.50′ W. long.

(dd) Hidden Reef/Kidney Bank. The boundary of the Hidden Reef/Kidney Bank EFH Conservation Area is defined by straight lines connecting all of the following points in the order stated:

(1) 33°48.00′ N. lat., 119°15.06′ W. long.;

(2) 33°48.00′ N. lat., 118°57.06′ W. long.;

(3) 33°33.00′ N. lat., 118°57.06′ W. long.;

(4) 33°33.00′ N. lat., 119°15.06′ W. long.;

and connecting back to 33°48.00′ N. lat., 119°15.06′ W. long.

(ee) Catalina Island. The boundary of the Catalina Island EFH Conservation Area is defined by straight lines connecting all of the following points in the order stated:

(1) 33°34.71′ N. lat., 118°11.40′ W. long.;

(2) 33°25.88′ N. lat., 118°03.76′ W. long.;

(3) 33°11.69′ N. lat., 118°09.21′ W. long.;

(4) 33°19.73′ N. lat., 118°35.41′ W. long.;

(5) 33°23.90′ N. lat., 118°35.11′ W. long.;

(6) 33°25.68′ N. lat., 118°41.66′ W. long.;

(7) 33°30.25′ N. lat., 118°42.25′ W. long.;

(8) 33°32.73′ N. lat., 118°38.38′ W. long.;

(9) 33°27.07′ N. lat., 118°20.33′ W. long.;

and connecting back to 33°34.71′ N. lat., 118°11.40′ W. long.

(ff) Potato Bank. Potato Bank is within the Cowcod Conservation Area West, an area south of Point Conception. The boundary of the Potato Bank EFH Conservation Area is defined by straight lines connecting all of the following points in the order stated:

(1) 33°30.00′ N. lat., 120°00.06′ W. long.;

(2) 33°30.00′ N. lat., 119°50.06′ W. long.;

(3) 33°20.00′ N. lat., 119°50.06′ W. long.;

(4) 33°20.00′ N. lat., 120°00.06′ W. long.;

and connecting back to 33°30.00′ N. lat., 120°00.06′ W. long.

(gg) Santa Barbara. The Santa Barbara EFH Conservation Area is defined by the mean high water line and straight lines connecting all of the following points in the order stated:

(1) 33°28.50′ N. lat., 119°01.70′ W. long.;

(2) 33°28.50′ N. lat., 118°54.54′ W. long.;

(3) 33°21.78′ N. lat., 118°54.54′ W. long.;

(4) 33°21.78′ N. lat., 119°02.20′ W. long.;

(5) 33°27.90′ N. lat., 119°02.20′ W. long.

(hh) Cherry Bank. Cherry Bank is within the Cowcod Conservation Area West, an area south of Point Conception. The Cherry Bank EFH Conservation Area is defined by straight lines connecting all of the following points in the order stated:

(1) 32°59.00′ N. lat., 119°32.05′ W. long.;

(2) 32°59.00′ N. lat., 119°17.05′ W. long.;

(3) 32°46.00′ N. lat., 119°17.05′ W. long.;

(4) 32°46.00′ N. lat., 119°32.05′ W. long.;

and connecting back to 32°59.00′ N. lat., 119°32.05′ W. long.

(ii) Cowcod EFH Conservation Area East. The Cowcod EFH Conservation Area East is defined by straight lines connecting all of the following points in the order stated:

(1) 32°41.15′ N. lat., 118°02.00′ W. long.;

(2) 32°42.00′ N. lat., 118°02.00′ W. long.;

(3) 32°42.00′ N. lat., 117°50.00′ W. long.;

(4) 32°36.70′ N. lat., 117°50.00′ W. long.;

(5) 32°30.00′ N. lat., 117°53.50′ W. long.;

(6) 32°30.00′ N. lat., 118°02.00′ W. long.;

(7) 32°40.49′ N. lat., 118°02.00′ W. long.;

and connecting back to 32°41.15′ N. lat., 118°02.00′ W. long.

[FR Doc. 06-4357 Filed 5-10-06; 8:45 am]

BILLING CODE 3510-22-S